DEPARTMENT OF ENERGY

Federal Energy Regulatory Commission

18 CFR Part 11

[Docket No. RM10-27-000]

Update of the Federal Energy Regulatory Commission's Fees Schedule for Annual Charges for the Use of Government Lands

AGENCY: Federal Energy Regulatory Commission, DOE.

ACTION: Final rule.

SUMMARY: In accordance with the Commission's regulations, the Commission by its designee, the Executive Director, is updating its schedule of fees for the use of government lands. The yearly update is based on the most recent schedule of fees for the use of linear rights-of-way prepared by the United States Forest Service. Since the next fiscal year will cover the period from October 1, 2009 through September 30, 2010 the fees in this rule will become effective October 1, 2010. The fees will apply to fiscal year 2010 annual charges for the use of government lands.

DATES: Effective Date: July 27, 2010.

FOR FURTHER INFORMATION CONTACT: Fannie Kingsberry, Division of Financial Services, Office of the Executive Director, Federal Energy Regulatory Commission, 888 First Street, NE., Washington, DC 20426, (202) 502-6108.

SUPPLEMENTARY INFORMATION: Document Availability: In addition to publishing the full text of this document in the Federal Register, the Commission provides all interested persons an opportunity to view and/or print the contents of this document via the Internet through the Commission's Home Page (http://www.ferc.gov) and in the Commission's Public Reference Room during normal business hours (8:30 a.m. to 5 p.m. Eastern time) at 888 First Street, NE., Room 2A, Washington, DC 20426.

From the Commission's Home Page on the Internet, this information is available in the eLibrary. The full text of this document is available on eLibrary in PDF and MSWord format for viewing, printing, and/or downloading. To access this document in eLibrary, type the docket number excluding the last three digits of this document in the docket number field.

User assistance is available for eLibrary and the Commission's Web site during normal business hours from FERC's Online Support at (202) 502-6652 (toll free 1-866 208-3676) or e-mail at ferconlinesupport@ferc.gov, or the Public Reference Room at (202) 502-8371, TTY (202) 502-8659. E-mail the Public Reference Room at public.referenceroom@ferc.gov.

The Commission has concluded, with the concurrence of the Administrator of the Office of Information and Regulatory Affairs of OMB that this rule is not a “major rule”as defined in section 251 of the Small Business Regulatory Enforcement Fairness Act of 1996, 5 U.S.C 804(2).

List of Subjects in 18 CFR Part 11

Electric power, Reporting and recordkeeping requirements.

Thomas R. Herlihy,
Executive Director, Office of the Executive Director.

Accordingly, the Commission amends part 11 of Chapter I, Title 18 of the Code of Federal Regulations, as follows:

PART 11—[AMENDED]

1. The authority citation for part 11 continues to read as follows:

Authority: 16 U.S.C. 791a-825r; 42 U.S.C. 7101-7352.

2. In part 11, Appendix A is revised to read as follows.

Appendix A to Part 11—Fee Schedule for FY 2010
State | County | (Fee/acre/YR)
Alabama | Autauga | $62.78
Alabama | Baldwin | 94.17
Alabama | Barbour | 31.39
Alabama | Bibb | 47.08
Alabama | Blount | 94.17
Alabama | Bullock | 47.08
Alabama | Butler | 47.08
Alabama | Calhoun | 94.17
Alabama | Chambers | 31.39
Alabama | Cherokee | 47.08
Alabama | Chilton | 47.08
Alabama | Choctaw | 47.08
Alabama | Clarke | 47.08
Alabama | Clay | 47.08
Alabama | Cleburne | 62.78
Alabama | Coffee | 31.39
Alabama | Colbert | 47.08
Alabama | Conecuh | 31.39
Alabama | Coosa | 47.08
Alabama | Covington | 47.08
Alabama | Crenshaw | 47.08
Alabama | Cullman | 94.17
Alabama | Dale | 47.08
Alabama | Dallas | 31.39
Alabama | DeKalb | 62.78
Alabama | Elmore | 62.78
Alabama | Escambia | 47.08
Alabama | Etowah | 94.17
Alabama | Fayette | 31.39
Alabama | Franklin | 47.08
Alabama | Geneva | 47.08
Alabama | Greene | 31.39
Alabama | Hale | 31.39
Alabama | Henry | 31.39
Alabama | Houston | 47.08
Alabama | Jackson | 62.78
Alabama | Jefferson | 94.17
Alabama | Lamar | 31.39
Alabama | Lauderdale | 47.08
Alabama | Lawrence | 47.08
Alabama | Lee | 62.78
Alabama | Limestone | 62.78
Alabama | Lowndes | 31.39
Alabama | Macon | 47.08
Alabama | Madison | 62.78
Alabama | Marengo | 31.39
Alabama | Marion | 47.08
Alabama | Marshall | 94.17
Alabama | Mobile | 94.17
Alabama | Monroe | 47.08
Alabama | Montgomery | 62.78
Alabama | Morgan | 94.17
Alabama | Perry | 31.39
Alabama | Pickens | 47.08
Alabama | Pike | 47.08
Alabama | Randolph | 62.78
Alabama | Russell | 47.08
Alabama | Shelby | 94.17
Alabama | St. Clair | 62.78
Alabama | Sumter | 31.39
Alabama | Talladega | 94.17
Alabama | Tallapoosa | 47.08
Alabama | Tuscaloosa | 62.78
Alabama | Walker | 47.08
Alabama | Washington | 47.08
Alabama | Wilcox | 31.39
Alabama | Winston | 62.78
Alaska | Aleutian Islands Area ** | 7.85
Alaska | Anchorage Area ** | 62.78
Alaska | Fairbanks Area ** | 31.39
Alaska | Juneau Area ** | 1,569.43
Alaska | Kenai Peninsula ** | 47.08
Arizona | Apache | 7.85
Arizona | Cochise | 31.39
Arizona | Coconino | 7.85
Arizona | Gila | 7.85
Arizona | Graham | 15.69
Arizona | Greenlee | 47.08
Arizona | La Paz | 31.39
Arizona | Maricopa | 94.17
Arizona | Mohave | 15.69
Arizona | Navajo | 7.85
Arizona | Pima | 7.85
Arizona | Pinal | 31.39
Arizona | Santa Cruz | 47.08
Arizona | Yavapai | 15.69
Arizona | Yuma | 156.94
Arkansas | Arkansas | 47.08
Arkansas | Ashley | 47.08
Arkansas | Baxter | 47.08
Arkansas | Benton | 94.17
Arkansas | Boone | 47.08
Arkansas | Bradley | 62.78
Arkansas | Calhoun | 47.08
Arkansas | Carroll | 47.08
Arkansas | Chicot | 31.39
Arkansas | Clark | 47.08
Arkansas | Clay | 47.08
Arkansas | Cleburne | 47.08
Arkansas | Cleveland | 62.78
Arkansas | Columbia | 47.08
Arkansas | Conway | 47.08
Arkansas | Craighead | 47.08
Arkansas | Crawford | 47.08
Arkansas | Crittenden | 47.08
Arkansas | Cross | 47.08
Arkansas | Dallas | 47.08
Arkansas | Desha | 31.39
Arkansas | Drew | 47.08
Arkansas | Faulkner | 47.08
Arkansas | Franklin | 47.08
Arkansas | Fulton | 31.39
Arkansas | Garland | 62.78
Arkansas | Grant | 47.08
Arkansas | Greene | 47.08
Arkansas | Hempstead | 47.08
Arkansas | Hot Spring | 47.08
Arkansas | Howard | 47.08
Arkansas | Independence | 31.39
Arkansas | Izard | 31.39
Arkansas | Jackson | 31.39
Arkansas | Jefferson | 31.39
Arkansas | Johnson | 62.78
Arkansas | Lafayette | 31.39
Arkansas | Lawrence | 47.08
Arkansas | Lee | 31.39
Arkansas | Lincoln | 31.39
Arkansas | Little River | 31.39
Arkansas | Logan | 47.08
Arkansas | Lonoke | 47.08
Arkansas | Madison | 47.08
Arkansas | Marion | 47.08
Arkansas | Miller | 31.39
Arkansas | Mississippi | 47.08
Arkansas | Monroe | 31.39
Arkansas | Montgomery | 47.08
Arkansas | Nevada | 31.39
Arkansas | Newton | 47.08
Arkansas | Ouachita | 47.08
Arkansas | Perry | 47.08
Arkansas | Phillips | 31.39
Arkansas | Pike | 47.08
Arkansas | Poinsett | 47.08
Arkansas | Polk | 47.08
Arkansas | Pope | 62.78
Arkansas | Prairie | 31.39
Arkansas | Pulaski | 47.08
Arkansas | Randolph | 47.08
Arkansas | Saline | 62.78
Arkansas | Scott | 47.08
Arkansas | Searcy | 31.39
Arkansas | Sebastian | 62.78
Arkansas | Sevier | 47.08
Arkansas | Sharp | 31.39
Arkansas | St. Francis | 31.39
Arkansas | Stone | 31.39
Arkansas | Union | 62.78
Arkansas | Van Buren | 47.08
Arkansas | Washington | 94.17
Arkansas | White | 47.08
Arkansas | Woodruff | 31.39
Arkansas | Yell | 47.08
California | Alameda | 94.17
California | Alpine | 62.78
California | Amador | 62.78
California | Butte | 156.94
California | Calaveras | 47.08
California | Colusa | 94.17
California | Contra Costa | 313.89
California | Del Norte | 156.94
California | El Dorado | 94.17
California | Fresno | 94.17
California | Glenn | 62.78
California | Humboldt | 31.39
California | Imperial | 94.17
California | Inyo | 31.39
California | Kern | 47.08
California | Kings | 94.17
California | Lake | 156.94
California | Lassen | 31.39
California | Los Angeles | 627.77
California | Madera | 94.17
California | Marin | 94.17
California | Mariposa | 31.39
California | Mendocino | 62.78
California | Merced | 156.94
California | Modoc | 31.39
California | Mono | 47.08
California | Monterey | 94.17
California | Napa | 627.77
California | Nevada | 94.17
California | Orange | 313.89
California | Placer | 156.94
California | Plumas | 31.39
California | Riverside | 156.94
California | Sacramento | 156.94
California | San Benito | 62.78
California | San Bernardino | 62.78
California | San Diego | 313.89
California | San Francisco | 941.66
California | San Joaquin | 313.89
California | San Luis Obispo | 94.17
California | San Mateo | 156.94
California | Santa Barbara | 94.17
California | Santa Clara | 94.17
California | Santa Cruz | 313.89
California | Shasta | 47.08
California | Sierra | 47.08
California | Siskiyou | 47.08
California | Solano | 156.94
California | Sonoma | 313.89
California | Stanislaus | 156.94
California | Sutter | 156.94
California | Tehama | 47.08
California | Trinity | 31.39
California | Tulare | 156.94
California | Tuolumne | 47.08
California | Ventura | 313.89
California | Yolo | 94.17
California | Yuba | 94.17
Colorado | Adams | 31.39
Colorado | Alamosa | 31.39
Colorado | Arapahoe | 31.39
Colorado | Archuleta | 47.08
Colorado | Baca | 7.85
Colorado | Bent | 15.69
Colorado | Boulder | 313.89
Colorado | Broomfield* | 31.39
Colorado | Chaffee | 62.78
Colorado | Cheyenne | 15.69
Colorado | Clear Creek | 47.08
Colorado | Conejos | 31.39
Colorado | Costilla | 15.69
Colorado | Crowley | 7.85
Colorado | Custer | 47.08
Colorado | Delta | 62.78
Colorado | Denver * | 31.39
Colorado | Dolores | 31.39
Colorado | Douglas | 94.17
Colorado | Eagle | 47.08
Colorado | El Paso | 31.39
Colorado | Elbert | 31.39
Colorado | Fremont | 31.39
Colorado | Garfield | 47.08
Colorado | Gilpin | 94.17
Colorado | Grand | 31.39
Colorado | Gunnison | 47.08
Colorado | Hinsdale | 94.17
Colorado | Huerfano | 15.69
Colorado | Jackson | 15.69
Colorado | Jefferson | 156.94
Colorado | Kiowa | 7.85
Colorado | Kit Carson | 15.69
Colorado | La Plata | 31.39
Colorado | Lake | 47.08
Colorado | Larimer | 62.78
Colorado | Las Animas | 7.85
Colorado | Lincoln | 7.85
Colorado | Logan | 15.69
Colorado | Mesa | 47.08
Colorado | Mineral | 47.08
Colorado | Moffat | 15.69
Colorado | Montezuma | 15.69
Colorado | Montrose | 31.39
Colorado | Morgan | 31.39
Colorado | Otero | 15.69
Colorado | Ouray | 47.08
Colorado | Park | 31.39
Colorado | Phillips | 31.39
Colorado | Pitkin | 156.94
Colorado | Prowers | 15.69
Colorado | Pueblo | 15.69
Colorado | Rio Blanco | 31.39
Colorado | Rio Grande | 47.08
Colorado | Routt | 62.78
Colorado | Saguache | 31.39
Colorado | San Juan * | 31.39
Colorado | San Miguel | 31.39
Colorado | Sedgwick | 31.39
Colorado | Summit | 47.08
Colorado | Teller | 47.08
Colorado | Washington | 15.69
Colorado | Weld | 47.08
Colorado | Yuma | 15.69
Connecticut | Fairfield | 941.66
Connecticut | Hartford | 627.77
Connecticut | Litchfield | 313.89
Connecticut | Middlesex | 313.89
Connecticut | New Haven | 627.77
Connecticut | New London | 313.89
Connecticut | Tolland | 156.94
Connecticut | Windham | 313.89
Delaware | Kent | 94.17
Delaware | New Castle | 156.94
Delaware | Sussex | 156.94
Florida | Alachua | 94.17
Florida | Baker | 156.94
Florida | Bay | 94.17
Florida | Bradford | 62.78
Florida | Brevard | 62.78
Florida | Broward | 627.77
Florida | Calhoun | 47.08
Florida | Charlotte | 47.08
Florida | Citrus | 62.78
Florida | Clay | 62.78
Florida | Collier | 94.17
Florida | Columbia | 47.08
Florida | Dade | 313.89
Florida | DeSoto | 62.78
Florida | Dixie | 47.08
Florida | Duval | 156.94
Florida | Escambia | 62.78
Florida | Flagler | 47.08
Florida | Franklin | 31.39
Florida | Gadsden | 62.78
Florida | Gilchrist | 62.78
Florida | Glades | 47.08
Florida | Gulf | 62.78
Florida | Hamilton | 47.08
Florida | Hardee | 62.78
Florida | Hendry | 156.94
Florida | Hernando | 156.94
Florida | Highlands | 62.78
Florida | Hillsborough | 156.94
Florida | Holmes | 47.08
Florida | Indian River | 94.17
Florida | Jackson | 47.08
Florida | Jefferson | 47.08
Florida | Lafayette | 47.08
Florida | Lake | 156.94
Florida | Lee | 94.17
Florida | Leon | 62.78
Florida | Levy | 62.78
Florida | Liberty | 47.08
Florida | Madison | 47.08
Florida | Manatee | 94.17
Florida | Marion | 156.94
Florida | Martin | 94.17
Florida | Monroe | 627.77
Florida | Nassau | 156.94
Florida | Okaloosa | 94.17
Florida | Okeechobee | 62.78
Florida | Orange | 156.94
Florida | Osceola | 47.08
Florida | Palm Beach | 94.17
Florida | Pasco | 156.94
Florida | Pinellas | 941.66
Florida | Polk | 94.17
Florida | Putnam | 62.78
Florida | Santa Rosa | 94.17
Florida | Sarasota | 94.17
Florida | Seminole | 156.94
Florida | St. Johns | 156.94
Florida | St. Lucie | 94.17
Florida | Sumter | 62.78
Florida | Suwannee | 94.17
Florida | Taylor | 47.08
Florida | Union | 47.08
Florida | Volusia | 156.94
Florida | Wakulla | 94.17
Florida | Walton | 62.78
Florida | Washington | 62.78
Georgia | Appling | 47.08
Georgia | Atkinson | 47.08
Georgia | Bacon | 62.78
Georgia | Baker | 47.08
Georgia | Baldwin | 62.78
Georgia | Banks | 156.94
Georgia | Barrow | 156.94
Georgia | Bartow | 94.17
Georgia | Ben Hill | 47.08
Georgia | Berrien | 47.08
Georgia | Bibb | 62.78
Georgia | Bleckley | 47.08
Georgia | Brantley | 47.08
Georgia | Brooks | 47.08
Georgia | Bryan | 47.08
Georgia | Bulloch | 47.08
Georgia | Burke | 47.08
Georgia | Butts | 62.78
Georgia | Calhoun | 47.08
Georgia | Camden | 47.08
Georgia | Candler | 47.08
Georgia | Carroll | 156.94
Georgia | Catoosa | 156.94
Georgia | Charlton | 62.78
Georgia | Chatham | 62.78
Georgia | Chattahoochee | 47.08
Georgia | Chattooga | 47.08
Georgia | Cherokee | 313.89
Georgia | Clarke | 156.94
Georgia | Clay | 31.39
Georgia | Clayton | 156.94
Georgia | Clinch | 47.08
Georgia | Cobb | 313.89
Georgia | Coffee | 47.08
Georgia | Colquitt | 47.08
Georgia | Columbia | 156.94
Georgia | Cook | 47.08
Georgia | Coweta | 156.94
Georgia | Crawford | 62.78
Georgia | Crisp | 47.08
Georgia | Dade | 62.78
Georgia | Dawson | 156.94
Georgia | Decatur | 47.08
Georgia | DeKalb | 313.89
Georgia | Dodge | 31.39
Georgia | Dooly | 47.08
Georgia | Dougherty | 47.08
Georgia | Douglas | 156.94
Georgia | Early | 47.08
Georgia | Echols | 47.08
Georgia | Effingham | 47.08
Georgia | Elbert | 62.78
Georgia | Emanuel | 31.39
Georgia | Evans | 47.08
Georgia | Fannin | 94.17
Georgia | Fayette | 156.94
Georgia | Floyd | 94.17
Georgia | Forsyth | 313.89
Georgia | Franklin | 156.94
Georgia | Fulton | 156.94
Georgia | Gilmer | 156.94
Georgia | Glascock | 47.08
Georgia | Glynn | 47.08
Georgia | Gordon | 156.94
Georgia | Grady | 47.08
Georgia | Greene | 94.17
Georgia | Gwinnett | 313.89
Georgia | Habersham | 156.94
Georgia | Hall | 156.94
Georgia | Hancock | 31.39
Georgia | Haralson | 94.17
Georgia | Harris | 62.78
Georgia | Hart | 94.17
Georgia | Heard | 62.78
Georgia | Henry | 156.94
Georgia | Houston | 62.78
Georgia | Irwin | 47.08
Georgia | Jackson | 156.94
Georgia | Jasper | 62.78
Georgia | Jeff Davis | 47.08
Georgia | Jefferson | 47.08
Georgia | Jenkins | 47.08
Georgia | Johnson | 47.08
Georgia | Jones | 62.78
Georgia | Lamar | 62.78
Georgia | Lanier | 31.39
Georgia | Laurens | 47.08
Georgia | Lee | 47.08
Georgia | Liberty | 62.78
Georgia | Lincoln | 94.17
Georgia | Long | 47.08
Georgia | Lowndes | 62.78
Georgia | Lumpkin | 156.94
Georgia | Macon | 47.08
Georgia | Madison | 156.94
Georgia | Marion | 47.08
Georgia | McDuffie | 62.78
Georgia | McIntosh | 47.08
Georgia | Meriwether | 62.78
Georgia | Miller | 47.08
Georgia | Mitchell | 47.08
Georgia | Monroe | 62.78
Georgia | Montgomery | 47.08
Georgia | Morgan | 94.17
Georgia | Murray | 94.17
Georgia | Muscogee | 94.17
Georgia | Newton | 156.94
Georgia | Oconee | 156.94
Georgia | Oglethorpe | 94.17
Georgia | Paulding | 313.89
Georgia | Peach | 62.78
Georgia | Pickens | 156.94
Georgia | Pierce | 47.08
Georgia | Pike | 94.17
Georgia | Polk | 62.78
Georgia | Pulaski | 47.08
Georgia | Putnam | 94.17
Georgia | Quitman | 47.08
Georgia | Rabun | 156.94
Georgia | Randolph | 31.39
Georgia | Richmond | 94.17
Georgia | Rockdale | 156.94
Georgia | Schley | 47.08
Georgia | Screven | 47.08
Georgia | Seminole | 47.08
Georgia | Spalding | 156.94
Georgia | Stephens | 156.94
Georgia | Stewart | 47.08
Georgia | Sumter | 47.08
Georgia | Talbot | 47.08
Georgia | Taliaferro | 47.08
Georgia | Tattnall | 62.78
Georgia | Taylor | 47.08
Georgia | Telfair | 47.08
Georgia | Terrell | 47.08
Georgia | Thomas | 47.08
Georgia | Tift | 62.78
Georgia | Toombs | 47.08
Georgia | Towns | 156.94
Georgia | Treutlen | 47.08
Georgia | Troup | 47.08
Georgia | Turner | 47.08
Georgia | Twiggs | 47.08
Georgia | Union | 156.94
Georgia | Upson | 62.78
Georgia | Walker | 94.17
Georgia | Walton | 313.89
Georgia | Ware | 47.08
Georgia | Warren | 47.08
Georgia | Washington | 47.08
Georgia | Wayne | 47.08
Georgia | Webster | 47.08
Georgia | Wheeler | 31.39
Georgia | White | 156.94
Georgia | Whitfield | 62.78
Georgia | Wilcox | 47.08
Georgia | Wilkes | 47.08
Georgia | Wilkinson | 47.08
Georgia | Worth | 47.08
Hawaii | Hawaii | 94.17
Hawaii | Honolulu | 313.89
Hawaii | Kauai | 156.94
Hawaii | Maui | 156.94
Idaho | Ada | 94.17
Idaho | Adams | 15.69
Idaho | Bannock | 31.39
Idaho | Bear Lake | 31.39
Idaho | Benewah | 31.39
Idaho | Bingham | 31.39
Idaho | Blaine | 47.08
Idaho | Boise | 31.39
Idaho | Bonner | 94.17
Idaho | Bonneville | 47.08
Idaho | Boundary | 62.78
Idaho | Butte | 31.39
Idaho | Camas | 31.39
Idaho | Canyon | 156.94
Idaho | Caribou | 31.39
Idaho | Cassia | 31.39
Idaho | Clark | 31.39
Idaho | Clearwater | 47.08
Idaho | Custer | 47.08
Idaho | Elmore | 31.39
Idaho | Franklin | 31.39
Idaho | Fremont | 31.39
Idaho | Gem | 31.39
Idaho | Gooding | 94.17
Idaho | Idaho | 31.39
Idaho | Jefferson | 47.08
Idaho | Jerome | 62.78
Idaho | Kootenai | 62.78
Idaho | Latah | 47.08
Idaho | Lemhi | 31.39
Idaho | Lewis | 31.39
Idaho | Lincoln | 31.39
Idaho | Madison | 62.78
Idaho | Minidoka | 62.78
Idaho | Nez Perce | 31.39
Idaho | Oneida | 31.39
Idaho | Owyhee | 31.39
Idaho | Payette | 47.08
Idaho | Power | 31.39
Idaho | Shoshone | 94.17
Idaho | Teton | 62.78
Idaho | Twin Falls | 62.78
Idaho | Valley | 47.08
Idaho | Washington | 31.39
Illinois | Adams | 62.78
Illinois | Alexander | 47.08
Illinois | Bond | 62.78
Illinois | Boone | 94.17
Illinois | Brown | 47.08
Illinois | Bureau | 94.17
Illinois | Calhoun | 47.08
Illinois | Carroll | 62.78
Illinois | Cass | 62.78
Illinois | Champaign | 94.17
Illinois | Christian | 94.17
Illinois | Clark | 62.78
Illinois | Clay | 47.08
Illinois | Clinton | 62.78
Illinois | Coles | 94.17
Illinois | Cook | 313.89
Illinois | Crawford | 47.08
Illinois | Cumberland | 62.78
Illinois | De Witt | 94.17
Illinois | DeKalb | 156.94
Illinois | Douglas | 94.17
Illinois | DuPage | 156.94
Illinois | Edgar | 62.78
Illinois | Edwards | 47.08
Illinois | Effingham | 62.78
Illinois | Fayette | 47.08
Illinois | Ford | 94.17
Illinois | Franklin | 47.08
Illinois | Fulton | 62.78
Illinois | Gallatin | 47.08
Illinois | Greene | 47.08
Illinois | Grundy | 94.17
Illinois | Hamilton | 47.08
Illinois | Hancock | 94.17
Illinois | Hardin | 47.08
Illinois | Henderson | 62.78
Illinois | Henry | 62.78
Illinois | Iroquois | 62.78
Illinois | Jackson | 47.08
Illinois | Jasper | 62.78
Illinois | Jefferson | 47.08
Illinois | Jersey | 62.78
Illinois | Jo Daviess | 62.78
Illinois | Johnson | 47.08
Illinois | Kane | 156.94
Illinois | Kankakee | 94.17
Illinois | Kendall | 156.94
Illinois | Knox | 62.78
Illinois | La Salle | 94.17
Illinois | Lake | 156.94
Illinois | Lawrence | 47.08
Illinois | Lee | 94.17
Illinois | Livingston | 94.17
Illinois | Logan | 94.17
Illinois | Macon | 94.17
Illinois | Macoupin | 62.78
Illinois | Madison | 62.78
Illinois | Marion | 47.08
Illinois | Marshall | 94.17
Illinois | Mason | 62.78
Illinois | Massac | 31.39
Illinois | McDonough | 62.78
Illinois | McHenry | 156.94
Illinois | McLean | 94.17
Illinois | Menard | 62.78
Illinois | Mercer | 62.78
Illinois | Monroe | 94.17
Illinois | Montgomery | 62.78
Illinois | Morgan | 62.78
Illinois | Moultrie | 94.17
Illinois | Ogle | 94.17
Illinois | Peoria | 94.17
Illinois | Perry | 47.08
Illinois | Piatt | 94.17
Illinois | Pike | 47.08
Illinois | Pope | 31.39
Illinois | Pulaski | 47.08
Illinois | Putnam | 94.17
Illinois | Randolph | 62.78
Illinois | Richland | 47.08
Illinois | Rock Island | 94.17
Illinois | Saline | 47.08
Illinois | Sangamon | 94.17
Illinois | Schuyler | 47.08
Illinois | Scott | 62.78
Illinois | Shelby | 62.78
Illinois | St. Clair | 94.17
Illinois | Stark | 94.17
Illinois | Stephenson | 62.78
Illinois | Tazewell | 94.17
Illinois | Union | 62.78
Illinois | Vermilion | 62.78
Illinois | Wabash | 47.08
Illinois | Warren | 94.17
Illinois | Washington | 62.78
Illinois | Wayne | 31.39
Illinois | White | 47.08
Illinois | Whiteside | 94.17
Illinois | Will | 156.94
Illinois | Williamson | 62.78
Illinois | Winnebago | 94.17
Illinois | Woodford | 94.17
Indiana | Adams | 94.17
Indiana | Allen | 94.17
Indiana | Bartholomew | 94.17
Indiana | Benton | 62.78
Indiana | Blackford | 62.78
Indiana | Boone | 94.17
Indiana | Brown | 94.17
Indiana | Carroll | 94.17
Indiana | Cass | 62.78
Indiana | Clark | 94.17
Indiana | Clay | 62.78
Indiana | Clinton | 94.17
Indiana | Crawford | 47.08
Indiana | Daviess | 62.78
Indiana | Dearborn | 94.17
Indiana | Decatur | 94.17
Indiana | DeKalb | 62.78
Indiana | Delaware | 94.17
Indiana | Dubois | 62.78
Indiana | Elkhart | 156.94
Indiana | Fayette | 62.78
Indiana | Floyd | 94.17
Indiana | Fountain | 62.78
Indiana | Franklin | 62.78
Indiana | Fulton | 62.78
Indiana | Gibson | 62.78
Indiana | Grant | 94.17
Indiana | Greene | 62.78
Indiana | Hamilton | 156.94
Indiana | Hancock | 94.17
Indiana | Harrison | 94.17
Indiana | Hendricks | 94.17
Indiana | Henry | 94.17
Indiana | Howard | 94.17
Indiana | Huntington | 62.78
Indiana | Jackson | 62.78
Indiana | Jasper | 62.78
Indiana | Jay | 94.17
Indiana | Jefferson | 62.78
Indiana | Jennings | 62.78
Indiana | Johnson | 156.94
Indiana | Knox | 62.78
Indiana | Kosciusko | 94.17
Indiana | LaGrange | 94.17
Indiana | Lake | 94.17
Indiana | LaPorte | 94.17
Indiana | Lawrence | 47.08
Indiana | Madison | 94.17
Indiana | Marion | 156.94
Indiana | Marshall | 62.78
Indiana | Martin | 62.78
Indiana | Miami | 62.78
Indiana | Monroe | 62.78
Indiana | Montgomery | 62.78
Indiana | Morgan | 94.17
Indiana | Newton | 62.78
Indiana | Noble | 94.17
Indiana | Ohio | 94.17
Indiana | Orange | 62.78
Indiana | Owen | 62.78
Indiana | Parke | 62.78
Indiana | Perry | 47.08
Indiana | Pike | 62.78
Indiana | Porter | 94.17
Indiana | Posey | 62.78
Indiana | Pulaski | 62.78
Indiana | Putnam | 62.78
Indiana | Randolph | 62.78
Indiana | Ripley | 94.17
Indiana | Rush | 94.17
Indiana | Scott | 62.78
Indiana | Shelby | 94.17
Indiana | Spencer | 62.78
Indiana | St. Joseph | 94.17
Indiana | Starke | 62.78
Indiana | Steuben | 62.78
Indiana | Sullivan | 62.78
Indiana | Switzerland | 62.78
Indiana | Tippecanoe | 94.17
Indiana | Tipton | 94.17
Indiana | Union | 62.78
Indiana | Vanderburgh | 94.17
Indiana | Vermillion | 62.78
Indiana | Vigo | 62.78
Indiana | Wabash | 94.17
Indiana | Warren | 62.78
Indiana | Warrick | 62.78
Indiana | Washington | 62.78
Indiana | Wayne | 62.78
Indiana | Wells | 62.78
Indiana | White | 94.17
Indiana | Whitley | 94.17
Iowa | Adair | 47.08
Iowa | Adams | 47.08
Iowa | Allamakee | 47.08
Iowa | Appanoose | 31.39
Iowa | Audubon | 47.08
Iowa | Benton | 62.78
Iowa | Black Hawk | 94.17
Iowa | Boone | 62.78
Iowa | Bremer | 94.17
Iowa | Buchanan | 62.78
Iowa | Buena Vista | 62.78
Iowa | Butler | 62.78
Iowa | Calhoun | 62.78
Iowa | Carroll | 62.78
Iowa | Cass | 47.08
Iowa | Cedar | 62.78
Iowa | Cerro Gordo | 62.78
Iowa | Cherokee | 62.78
Iowa | Chickasaw | 62.78
Iowa | Clarke | 31.39
Iowa | Clay | 62.78
Iowa | Clayton | 62.78
Iowa | Clinton | 62.78
Iowa | Crawford | 62.78
Iowa | Dallas | 94.17
Iowa | Davis | 31.39
Iowa | Decatur | 31.39
Iowa | Delaware | 62.78
Iowa | Des Moines | 62.78
Iowa | Dickinson | 62.78
Iowa | Dubuque | 62.78
Iowa | Emmet | 62.78
Iowa | Fayette | 62.78
Iowa | Floyd | 62.78
Iowa | Franklin | 62.78
Iowa | Fremont | 47.08
Iowa | Greene | 62.78
Iowa | Grundy | 94.17
Iowa | Guthrie | 47.08
Iowa | Hamilton | 62.78
Iowa | Hancock | 62.78
Iowa | Hardin | 62.78
Iowa | Harrison | 47.08
Iowa | Henry | 62.78
Iowa | Howard | 62.78
Iowa | Humboldt | 62.78
Iowa | Ida | 62.78
Iowa | Iowa | 47.08
Iowa | Jackson | 47.08
Iowa | Jasper | 62.78
Iowa | Jefferson | 47.08
Iowa | Johnson | 62.78
Iowa | Jones | 62.78
Iowa | Keokuk | 47.08
Iowa | Kossuth | 62.78
Iowa | Lee | 47.08
Iowa | Linn | 94.17
Iowa | Louisa | 62.78
Iowa | Lucas | 31.39
Iowa | Lyon | 62.78
Iowa | Madison | 47.08
Iowa | Mahaska | 47.08
Iowa | Marion | 47.08
Iowa | Marshall | 62.78
Iowa | Mills | 47.08
Iowa | Mitchell | 62.78
Iowa | Monona | 47.08
Iowa | Monroe | 31.39
Iowa | Montgomery | 47.08
Iowa | Muscatine | 62.78
Iowa | O’Brien | 94.17
Iowa | Osceola | 62.78
Iowa | Page | 47.08
Iowa | Palo Alto | 62.78
Iowa | Plymouth | 62.78
Iowa | Pocahontas | 62.78
Iowa | Polk | 62.78
Iowa | Pottawattamie | 62.78
Iowa | Poweshiek | 47.08
Iowa | Ringgold | 31.39
Iowa | Sac | 62.78
Iowa | Scott | 94.17
Iowa | Shelby | 62.78
Iowa | Sioux | 94.17
Iowa | Story | 62.78
Iowa | Tama | 62.78
Iowa | Taylor | 31.39
Iowa | Union | 47.08
Iowa | Van Buren | 31.39
Iowa | Wapello | 47.08
Iowa | Warren | 47.08
Iowa | Washington | 62.78
Iowa | Wayne | 31.39
Iowa | Webster | 62.78
Iowa | Winnebago | 62.78
Iowa | Winneshiek | 47.08
Iowa | Woodbury | 47.08
Iowa | Worth | 62.78
Iowa | Wright | 62.78
Kansas | Allen | 31.39
Kansas | Anderson | 31.39
Kansas | Atchison | 31.39
Kansas | Barber | 15.69
Kansas | Barton | 15.69
Kansas | Bourbon | 31.39
Kansas | Brown | 31.39
Kansas | Butler | 31.39
Kansas | Chase | 15.69
Kansas | Chautauqua | 15.69
Kansas | Cherokee | 31.39
Kansas | Cheyenne | 15.69
Kansas | Clark | 15.69
Kansas | Clay | 31.39
Kansas | Cloud | 15.69
Kansas | Coffey | 31.39
Kansas | Comanche | 15.69
Kansas | Cowley | 31.39
Kansas | Crawford | 31.39
Kansas | Decatur | 15.69
Kansas | Dickinson | 31.39
Kansas | Doniphan | 47.08
Kansas | Douglas | 62.78
Kansas | Edwards | 15.69
Kansas | Elk | 15.69
Kansas | Ellis | 15.69
Kansas | Ellsworth | 15.69
Kansas | Finney | 15.69
Kansas | Ford | 15.69
Kansas | Franklin | 31.39
Kansas | Geary | 31.39
Kansas | Gove | 15.69
Kansas | Graham | 15.69
Kansas | Grant | 31.39
Kansas | Gray | 31.39
Kansas | Greeley | 15.69
Kansas | Greenwood | 15.69
Kansas | Hamilton | 15.69
Kansas | Harper | 15.69
Kansas | Harvey | 31.39
Kansas | Haskell | 31.39
Kansas | Hodgeman | 15.69
Kansas | Jackson | 31.39
Kansas | Jefferson | 31.39
Kansas | Jewell | 31.39
Kansas | Johnson | 62.78
Kansas | Kearny | 15.69
Kansas | Kingman | 31.39
Kansas | Kiowa | 15.69
Kansas | Labette | 31.39
Kansas | Lane | 15.69
Kansas | Leavenworth | 47.08
Kansas | Lincoln | 15.69
Kansas | Linn | 31.39
Kansas | Logan | 15.69
Kansas | Lyon | 31.39
Kansas | Marion | 31.39
Kansas | Marshall | 31.39
Kansas | McPherson | 31.39
Kansas | Meade | 15.69
Kansas | Miami | 47.08
Kansas | Mitchell | 31.39
Kansas | Montgomery | 31.39
Kansas | Morris | 31.39
Kansas | Morton | 15.69
Kansas | Nemaha | 31.39
Kansas | Neosho | 31.39
Kansas | Ness | 15.69
Kansas | Norton | 15.69
Kansas | Osage | 31.39
Kansas | Osborne | 15.69
Kansas | Ottawa | 15.69
Kansas | Pawnee | 15.69
Kansas | Phillips | 15.69
Kansas | Pottawatomie | 31.39
Kansas | Pratt | 31.39
Kansas | Rawlins | 15.69
Kansas | Reno | 31.39
Kansas | Republic | 31.39
Kansas | Rice | 31.39
Kansas | Riley | 31.39
Kansas | Rooks | 15.69
Kansas | Rush | 15.69
Kansas | Russell | 15.69
Kansas | Saline | 31.39
Kansas | Scott | 15.69
Kansas | Sedgwick | 31.39
Kansas | Seward | 31.39
Kansas | Shawnee | 47.08
Kansas | Sheridan | 15.69
Kansas | Sherman | 15.69
Kansas | Smith | 31.39
Kansas | Stafford | 31.39
Kansas | Stanton | 15.69
Kansas | Stevens | 31.39
Kansas | Sumner | 31.39
Kansas | Thomas | 15.69
Kansas | Trego | 15.69
Kansas | Wabaunsee | 31.39
Kansas | Wallace | 15.69
Kansas | Washington | 31.39
Kansas | Wichita | 15.69
Kansas | Wilson | 31.39
Kansas | Woodson | 15.69
Kansas | Wyandotte | 156.94
Kentucky | Adair | 47.08
Kentucky | Allen | 47.08
Kentucky | Anderson | 62.78
Kentucky | Ballard | 47.08
Kentucky | Barren | 47.08
Kentucky | Bath | 47.08
Kentucky | Bell | 47.08
Kentucky | Boone | 94.17
Kentucky | Bourbon | 94.17
Kentucky | Boyd | 47.08
Kentucky | Boyle | 62.78
Kentucky | Bracken | 47.08
Kentucky | Breathitt | 31.39
Kentucky | Breckinridge | 47.08
Kentucky | Bullitt | 94.17
Kentucky | Butler | 47.08
Kentucky | Caldwell | 31.39
Kentucky | Calloway | 47.08
Kentucky | Campbell | 156.94
Kentucky | Carlisle | 47.08
Kentucky | Carroll | 62.78
Kentucky | Carter | 47.08
Kentucky | Casey | 31.39
Kentucky | Christian | 47.08
Kentucky | Clark | 62.78
Kentucky | Clay | 31.39
Kentucky | Clinton | 47.08
Kentucky | Crittenden | 31.39
Kentucky | Cumberland | 31.39
Kentucky | Daviess | 62.78
Kentucky | Edmonson | 31.39
Kentucky | Elliott | 31.39
Kentucky | Estill | 31.39
Kentucky | Fayette | 156.94
Kentucky | Fleming | 47.08
Kentucky | Floyd | 47.08
Kentucky | Franklin | 62.78
Kentucky | Fulton | 47.08
Kentucky | Gallatin | 62.78
Kentucky | Garrard | 47.08
Kentucky | Grant | 94.17
Kentucky | Graves | 47.08
Kentucky | Grayson | 47.08
Kentucky | Green | 47.08
Kentucky | Greenup | 31.39
Kentucky | Hancock | 47.08
Kentucky | Hardin | 62.78
Kentucky | Harlan | 62.78
Kentucky | Harrison | 47.08
Kentucky | Hart | 47.08
Kentucky | Henderson | 62.78
Kentucky | Henry | 62.78
Kentucky | Hickman | 47.08
Kentucky | Hopkins | 47.08
Kentucky | Jackson | 31.39
Kentucky | Jefferson | 156.94
Kentucky | Jessamine | 94.17
Kentucky | Johnson | 47.08
Kentucky | Kenton | 156.94
Kentucky | Knott | 47.08
Kentucky | Knox | 47.08
Kentucky | Larue | 62.78
Kentucky | Laurel | 62.78
Kentucky | Lawrence | 31.39
Kentucky | Lee | 31.39
Kentucky | Leslie | 31.39
Kentucky | Letcher | 31.39
Kentucky | Lewis | 31.39
Kentucky | Lincoln | 47.08
Kentucky | Livingston | 31.39
Kentucky | Logan | 47.08
Kentucky | Lyon | 31.39
Kentucky | Madison | 62.78
Kentucky | Magoffin | 31.39
Kentucky | Marion | 47.08
Kentucky | Marshall | 47.08
Kentucky | Martin | 15.69
Kentucky | Mason | 62.78
Kentucky | McCracken | 47.08
Kentucky | McCreary | 62.78
Kentucky | McLean | 47.08
Kentucky | Meade | 62.78
Kentucky | Menifee | 62.78
Kentucky | Mercer | 94.17
Kentucky | Metcalfe | 47.08
Kentucky | Monroe | 47.08
Kentucky | Montgomery | 62.78
Kentucky | Morgan | 31.39
Kentucky | Muhlenberg | 47.08
Kentucky | Nelson | 62.78
Kentucky | Nicholas | 47.08
Kentucky | Ohio | 47.08
Kentucky | Oldham | 156.94
Kentucky | Owen | 47.08
Kentucky | Owsley | 47.08
Kentucky | Pendleton | 47.08
Kentucky | Perry | 31.39
Kentucky | Pike | 31.39
Kentucky | Powell | 47.08
Kentucky | Pulaski | 47.08
Kentucky | Robertson | 31.39
Kentucky | Rockcastle | 47.08
Kentucky | Rowan | 47.08
Kentucky | Russell | 62.78
Kentucky | Scott | 94.17
Kentucky | Shelby | 94.17
Kentucky | Simpson | 62.78
Kentucky | Spencer | 94.17
Kentucky | Taylor | 47.08
Kentucky | Todd | 47.08
Kentucky | Trigg | 47.08
Kentucky | Trimble | 47.08
Kentucky | Union | 47.08
Kentucky | Warren | 62.78
Kentucky | Washington | 47.08
Kentucky | Wayne | 62.78
Kentucky | Webster | 47.08
Kentucky | Whitley | 47.08
Kentucky | Wolfe | 31.39
Kentucky | Woodford | 156.94
Louisiana | Acadia | 47.08
Louisiana | Allen | 31.39
Louisiana | Ascension | 94.17
Louisiana | Assumption | 47.08
Louisiana | Avoyelles | 47.08
Louisiana | Beauregard | 47.08
Louisiana | Bienville | 47.08
Louisiana | Bossier | 47.08
Louisiana | Caddo | 47.08
Louisiana | Calcasieu | 47.08
Louisiana | Caldwell | 47.08
Louisiana | Cameron | 47.08
Louisiana | Catahoula | 31.39
Louisiana | Claiborne | 47.08
Louisiana | Concordia | 31.39
Louisiana | De Soto | 47.08
Louisiana | East Baton Rouge | 94.17
Louisiana | East Carroll | 31.39
Louisiana | East Feliciana | 62.78
Louisiana | Evangeline | 47.08
Louisiana | Franklin | 31.39
Louisiana | Grant | 47.08
Louisiana | Iberia | 62.78
Louisiana | Iberville | 47.08
Louisiana | Jackson | 94.17
Louisiana | Jefferson | 62.78
Louisiana | Jefferson Davis | 31.39
Louisiana | La Salle | 47.08
Louisiana | Lafayette | 94.17
Louisiana | Lafourche | 47.08
Louisiana | Lincoln | 62.78
Louisiana | Livingston | 94.17
Louisiana | Madison | 31.39
Louisiana | Morehouse | 31.39
Louisiana | Natchitoches | 47.08
Louisiana | Orleans | 1,569.43
Louisiana | Ouachita | 47.08
Louisiana | Plaquemines | 94.17
Louisiana | Pointe Coupee | 47.08
Louisiana | Rapides | 47.08
Louisiana | Red River | 31.39
Louisiana | Richland | 31.39
Louisiana | Sabine | 62.78
Louisiana | St. Bernard | 156.94
Louisiana | St. Charles | 156.94
Louisiana | St. Helena | 62.78
Louisiana | St. James | 47.08
Louisiana | St. John the Baptist | 94.17
Louisiana | St. Landry | 47.08
Louisiana | St. Martin | 47.08
Louisiana | St. Mary | 47.08
Louisiana | St. Tammany | 156.94
Louisiana | Tangipahoa | 94.17
Louisiana | Tensas | 31.39
Louisiana | Terrebonne | 47.08
Louisiana | Union | 62.78
Louisiana | Vermilion | 47.08
Louisiana | Vernon | 47.08
Louisiana | Washington | 62.78
Louisiana | Webster | 94.17
Louisiana | West Baton Rouge | 62.78
Louisiana | West Carroll | 47.08
Louisiana | West Feliciana | 47.08
Louisiana | Winn | 47.08
Maine | Androscoggin | 62.78
Maine | Aroostook | 31.39
Maine | Cumberland | 156.94
Maine | Franklin | 47.08
Maine | Hancock | 62.78
Maine | Kennebec | 62.78
Maine | Knox | 94.17
Maine | Lincoln | 94.17
Maine | Oxford | 62.78
Maine | Penobscot | 47.08
Maine | Piscataquis | 31.39
Maine | Sagadahoc | 94.17
Maine | Somerset | 47.08
Maine | Waldo | 47.08
Maine | Washington | 31.39
Maine | York | 156.94
Maryland | Allegany | 62.78
Maryland | Anne Arundel | 313.89
Maryland | Baltimore | 313.89
Maryland | Calvert | 156.94
Maryland | Caroline | 94.17
Maryland | Carroll | 156.94
Maryland | Cecil | 156.94
Maryland | Charles | 94.17
Maryland | Dorchester | 94.17
Maryland | Frederick | 156.94
Maryland | Garrett | 62.78
Maryland | Harford | 156.94
Maryland | Howard | 156.94
Maryland | Kent | 94.17
Maryland | Montgomery | 156.94
Maryland | Prince George's | 313.89
Maryland | Queen Anne's | 94.17
Maryland | Somerset | 94.17
Maryland | St. Mary's | 94.17
Maryland | Talbot | 156.94
Maryland | Washington | 156.94
Maryland | Wicomico | 94.17
Maryland | Worcester | 62.78
Massachusetts | Barnstable | 627.77
Massachusetts | Berkshire | 156.94
Massachusetts | Bristol | 627.77
Massachusetts | Dukes | 313.89
Massachusetts | Essex | 627.77
Massachusetts | Franklin | 156.94
Massachusetts | Hampden | 313.89
Massachusetts | Hampshire | 313.89
Massachusetts | Middlesex | 627.77
Massachusetts | Nantucket | 1,569.43
Massachusetts | Norfolk | 627.77
Massachusetts | Plymouth | 627.77
Massachusetts | Suffolk | 1,569.43
Massachusetts | Worcester | 313.89
Michigan | Alcona | 62.78
Michigan | Alger | 47.08
Michigan | Allegan | 94.17
Michigan | Alpena | 62.78
Michigan | Antrim | 94.17
Michigan | Arenac | 62.78
Michigan | Baraga | 31.39
Michigan | Barry | 94.17
Michigan | Bay | 94.17
Michigan | Benzie | 94.17
Michigan | Berrien | 156.94
Michigan | Branch | 62.78
Michigan | Calhoun | 62.78
Michigan | Cass | 62.78
Michigan | Charlevoix | 94.17
Michigan | Cheboygan | 62.78
Michigan | Chippewa | 47.08
Michigan | Clare | 62.78
Michigan | Clinton | 62.78
Michigan | Crawford | 94.17
Michigan | Delta | 47.08
Michigan | Dickinson | 47.08
Michigan | Eaton | 94.17
Michigan | Emmet | 94.17
Michigan | Genesee | 156.94
Michigan | Gladwin | 62.78
Michigan | Gogebic | 47.08
Michigan | Grand Traverse | 156.94
Michigan | Gratiot | 62.78
Michigan | Hillsdale | 62.78
Michigan | Houghton | 47.08
Michigan | Huron | 62.78
Michigan | Ingham | 94.17
Michigan | Ionia | 94.17
Michigan | Iosco | 62.78
Michigan | Iron | 47.08
Michigan | Isabella | 62.78
Michigan | Jackson | 94.17
Michigan | Kalamazoo | 94.17
Michigan | Kalkaska | 62.78
Michigan | Kent | 156.94
Michigan | Keweenaw | 62.78
Michigan | Lake | 62.78
Michigan | Lapeer | 156.94
Michigan | Leelanau | 156.94
Michigan | Lenawee | 94.17
Michigan | Livingston | 156.94
Michigan | Luce | 47.08
Michigan | Mackinac | 47.08
Michigan | Macomb | 156.94
Michigan | Manistee | 62.78
Michigan | Marquette | 47.08
Michigan | Mason | 62.78
Michigan | Mecosta | 62.78
Michigan | Menominee | 47.08
Michigan | Midland | 94.17
Michigan | Missaukee | 62.78
Michigan | Monroe | 94.17
Michigan | Montcalm | 62.78
Michigan | Montmorency | 62.78
Michigan | Muskegon | 94.17
Michigan | Newaygo | 94.17
Michigan | Oakland | 313.89
Michigan | Oceana | 94.17
Michigan | Ogemaw | 62.78
Michigan | Ontonagon | 31.39
Michigan | Osceola | 62.78
Michigan | Oscoda | 62.78
Michigan | Otsego | 62.78
Michigan | Ottawa | 156.94
Michigan | Presque Isle | 62.78
Michigan | Roscommon | 94.17
Michigan | Saginaw | 62.78
Michigan | Sanilac | 62.78
Michigan | Schoolcraft | 47.08
Michigan | Shiawassee | 62.78
Michigan | St. Clair | 156.94
Michigan | St. Joseph | 62.78
Michigan | Tuscola | 62.78
Michigan | Van Buren | 94.17
Michigan | Washtenaw | 156.94
Michigan | Wayne | 313.89
Michigan | Wexford | 94.17
Minnesota | Aitkin | 31.39
Minnesota | Anoka | 156.94
Minnesota | Becker | 31.39
Minnesota | Beltrami | 31.39
Minnesota | Benton | 62.78
Minnesota | Big Stone | 31.39
Minnesota | Blue Earth | 62.78
Minnesota | Brown | 62.78
Minnesota | Carlton | 31.39
Minnesota | Carver | 94.17
Minnesota | Cass | 31.39
Minnesota | Chippewa | 47.08
Minnesota | Chisago | 94.17
Minnesota | Clay | 31.39
Minnesota | Clearwater | 31.39
Minnesota | Cook | 47.08
Minnesota | Cottonwood | 47.08
Minnesota | Crow Wing | 31.39
Minnesota | Dakota | 94.17
Minnesota | Dodge | 62.78
Minnesota | Douglas | 47.08
Minnesota | Faribault | 62.78
Minnesota | Fillmore | 47.08
Minnesota | Freeborn | 62.78
Minnesota | Goodhue | 62.78
Minnesota | Grant | 47.08
Minnesota | Hennepin | 156.94
Minnesota | Houston | 47.08
Minnesota | Hubbard | 31.39
Minnesota | Isanti | 62.78
Minnesota | Itasca | 31.39
Minnesota | Jackson | 47.08
Minnesota | Kanabec | 47.08
Minnesota | Kandiyohi | 47.08
Minnesota | Kittson | 15.69
Minnesota | Koochiching | 31.39
Minnesota | Lac qui Parle | 31.39
Minnesota | Lake | 47.08
Minnesota | Lake of the Woods | 15.69
Minnesota | Le Sueur | 62.78
Minnesota | Lincoln | 31.39
Minnesota | Lyon | 47.08
Minnesota | Mahnomen | 31.39
Minnesota | Marshall | 15.69
Minnesota | Martin | 62.78
Minnesota | McLeod | 62.78
Minnesota | Meeker | 47.08
Minnesota | Mille Lacs | 47.08
Minnesota | Morrison | 47.08
Minnesota | Mower | 62.78
Minnesota | Murray | 47.08
Minnesota | Nicollet | 62.78
Minnesota | Nobles | 47.08
Minnesota | Norman | 31.39
Minnesota | Olmsted | 62.78
Minnesota | Otter Tail | 31.39
Minnesota | Pennington | 15.69
Minnesota | Pine | 47.08
Minnesota | Pipestone | 47.08
Minnesota | Polk | 31.39
Minnesota | Pope | 31.39
Minnesota | Ramsey | 627.77
Minnesota | Red Lake | 31.39
Minnesota | Redwood | 47.08
Minnesota | Renville | 62.78
Minnesota | Rice | 94.17
Minnesota | Rock | 47.08
Minnesota | Roseau | 15.69
Minnesota | Scott | 94.17
Minnesota | Sherburne | 94.17
Minnesota | Sibley | 62.78
Minnesota | St. Louis | 47.08
Minnesota | Stearns | 47.08
Minnesota | Steele | 62.78
Minnesota | Stevens | 47.08
Minnesota | Swift | 31.39
Minnesota | Todd | 31.39
Minnesota | Traverse | 31.39
Minnesota | Wabasha | 47.08
Minnesota | Wadena | 31.39
Minnesota | Waseca | 62.78
Minnesota | Washington | 156.94
Minnesota | Watonwan | 47.08
Minnesota | Wilkin | 31.39
Minnesota | Winona | 62.78
Minnesota | Wright | 94.17
Minnesota | Yellow Medicine | 47.08
Mississippi | Adams | 31.39
Mississippi | Alcorn | 47.08
Mississippi | Amite | 47.08
Mississippi | Attala | 47.08
Mississippi | Benton | 31.39
Mississippi | Bolivar | 31.39
Mississippi | Calhoun | 31.39
Mississippi | Carroll | 31.39
Mississippi | Chickasaw | 31.39
Mississippi | Choctaw | 31.39
Mississippi | Claiborne | 31.39
Mississippi | Clarke | 47.08
Mississippi | Clay | 31.39
Mississippi | Coahoma | 31.39
Mississippi | Copiah | 47.08
Mississippi | Covington | 47.08
Mississippi | DeSoto | 62.78
Mississippi | Forrest | 94.17
Mississippi | Franklin | 47.08
Mississippi | George | 94.17
Mississippi | Greene | 47.08
Mississippi | Grenada | 31.39
Mississippi | Hancock | 62.78
Mississippi | Harrison | 156.94
Mississippi | Hinds | 47.08
Mississippi | Holmes | 31.39
Mississippi | Humphreys | 31.39
Mississippi | Issaquena | 31.39
Mississippi | Itawamba | 31.39
Mississippi | Jackson | 156.94
Mississippi | Jasper | 47.08
Mississippi | Jefferson | 47.08
Mississippi | Jefferson Davis | 47.08
Mississippi | Jones | 62.78
Mississippi | Kemper | 31.39
Mississippi | Lafayette | 47.08
Mississippi | Lamar | 62.78
Mississippi | Lauderdale | 47.08
Mississippi | Lawrence | 47.08
Mississippi | Leake | 47.08
Mississippi | Lee | 47.08
Mississippi | Leflore | 31.39
Mississippi | Lincoln | 62.78
Mississippi | Lowndes | 31.39
Mississippi | Madison | 47.08
Mississippi | Marion | 47.08
Mississippi | Marshall | 47.08
Mississippi | Monroe | 31.39
Mississippi | Montgomery | 31.39
Mississippi | Neshoba | 62.78
Mississippi | Newton | 94.17
Mississippi | Noxubee | 31.39
Mississippi | Oktibbeha | 47.08
Mississippi | Panola | 31.39
Mississippi | Pearl River | 94.17
Mississippi | Perry | 62.78
Mississippi | Pike | 62.78
Mississippi | Pontotoc | 31.39
Mississippi | Prentiss | 31.39
Mississippi | Quitman | 31.39
Mississippi | Rankin | 47.08
Mississippi | Scott | 47.08
Mississippi | Sharkey | 31.39
Mississippi | Simpson | 62.78
Mississippi | Smith | 62.78
Mississippi | Stone | 47.08
Mississippi | Sunflower | 31.39
Mississippi | Tallahatchie | 31.39
Mississippi | Tate | 47.08
Mississippi | Tippah | 31.39
Mississippi | Tishomingo | 47.08
Mississippi | Tunica | 31.39
Mississippi | Union | 47.08
Mississippi | Walthall | 94.17
Mississippi | Warren | 31.39
Mississippi | Washington | 47.08
Mississippi | Wayne | 47.08
Mississippi | Webster | 31.39
Mississippi | Wilkinson | 47.08
Mississippi | Winston | 47.08
Mississippi | Yalobusha | 31.39
Mississippi | Yazoo | 31.39
Missouri | Adair | 31.39
Missouri | Andrew | 47.08
Missouri | Atchison | 47.08
Missouri | Audrain | 47.08
Missouri | Barry | 47.08
Missouri | Barton | 31.39
Missouri | Bates | 31.39
Missouri | Benton | 31.39
Missouri | Bollinger | 47.08
Missouri | Boone | 94.17
Missouri | Buchanan | 47.08
Missouri | Butler | 47.08
Missouri | Caldwell | 47.08
Missouri | Callaway | 47.08
Missouri | Camden | 47.08
Missouri | Cape Girardeau | 62.78
Missouri | Carroll | 47.08
Missouri | Carter | 31.39
Missouri | Cass | 47.08
Missouri | Cedar | 31.39
Missouri | Chariton | 47.08
Missouri | Christian | 62.78
Missouri | Clark | 31.39
Missouri | Clay | 94.17
Missouri | Clinton | 47.08
Missouri | Cole | 62.78
Missouri | Cooper | 47.08
Missouri | Crawford | 31.39
Missouri | Dade | 47.08
Missouri | Dallas | 47.08
Missouri | Daviess | 31.39
Missouri | DeKalb | 31.39
Missouri | Dent | 31.39
Missouri | Douglas | 31.39
Missouri | Dunklin | 62.78
Missouri | Franklin | 62.78
Missouri | Gasconade | 47.08
Missouri | Gentry | 31.39
Missouri | Greene | 94.17
Missouri | Grundy | 31.39
Missouri | Harrison | 31.39
Missouri | Henry | 31.39
Missouri | Hickory | 31.39
Missouri | Holt | 47.08
Missouri | Howard | 47.08
Missouri | Howell | 47.08
Missouri | Iron | 47.08
Missouri | Jackson | 94.17
Missouri | Jasper | 47.08
Missouri | Jefferson | 94.17
Missouri | Johnson | 47.08
Missouri | Knox | 47.08
Missouri | Laclede | 47.08
Missouri | Lafayette | 47.08
Missouri | Lawrence | 47.08
Missouri | Lewis | 31.39
Missouri | Lincoln | 62.78
Missouri | Linn | 31.39
Missouri | Livingston | 47.08
Missouri | Macon | 31.39
Missouri | Madison | 31.39
Missouri | Maries | 31.39
Missouri | Marion | 31.39
Missouri | McDonald | 62.78
Missouri | Mercer | 156.94
Missouri | Miller | 47.08
Missouri | Mississippi | 47.08
Missouri | Moniteau | 47.08
Missouri | Monroe | 31.39
Missouri | Montgomery | 47.08
Missouri | Morgan | 47.08
Missouri | New Madrid | 47.08
Missouri | Newton | 47.08
Missouri | Nodaway | 31.39
Missouri | Oregon | 31.39
Missouri | Osage | 47.08
Missouri | Ozark | 47.08
Missouri | Pemiscot | 47.08
Missouri | Perry | 47.08
Missouri | Pettis | 47.08
Missouri | Phelps | 47.08
Missouri | Pike | 47.08
Missouri | Platte | 62.78
Missouri | Polk | 47.08
Missouri | Pulaski | 47.08
Missouri | Putnam | 31.39
Missouri | Ralls | 47.08
Missouri | Randolph | 31.39
Missouri | Ray | 47.08
Missouri | Reynolds | 31.39
Missouri | Ripley | 31.39
Missouri | Saline | 47.08
Missouri | Schuyler | 31.39
Missouri | Scotland | 31.39
Missouri | Scott | 47.08
Missouri | Shannon | 31.39
Missouri | Shelby | 31.39
Missouri | St Louis | 94.17
Missouri | St. Charles | 156.94
Missouri | St. Clair | 31.39
Missouri | St. Francois | 62.78
Missouri | Ste. Genevieve | 47.08
Missouri | Stoddard | 62.78
Missouri | Stone | 62.78
Missouri | Sullivan | 31.39
Missouri | Taney | 47.08
Missouri | Texas | 31.39
Missouri | Vernon | 31.39
Missouri | Warren | 62.78
Missouri | Washington | 47.08
Missouri | Wayne | 31.39
Missouri | Webster | 47.08
Missouri | Worth | 31.39
Missouri | Wright | 47.08
Montana | Beaverhead | 15.69
Montana | Big Horn | 7.85
Montana | Blaine | 7.85
Montana | Broadwater | 15.69
Montana | Carbon | 31.39
Montana | Carter | 7.85
Montana | Cascade | 15.69
Montana | Chouteau | 15.69
Montana | Custer | 7.85
Montana | Daniels | 7.85
Montana | Dawson | 7.85
Montana | Deer Lodge | 31.39
Montana | Fallon | 7.85
Montana | Fergus | 15.69
Montana | Flathead | 62.78
Montana | Gallatin | 31.39
Montana | Garfield | 7.85
Montana | Glacier | 15.69
Montana | Golden Valley | 7.85
Montana | Granite | 31.39
Montana | Hill | 15.69
Montana | Jefferson | 15.69
Montana | Judith Basin | 15.69
Montana | Lake | 31.39
Montana | Lewis and Clark | 15.69
Montana | Liberty | 15.69
Montana | Lincoln | 94.17
Montana | Madison | 31.39
Montana | McCone | 7.85
Montana | Meagher | 15.69
Montana | Mineral | 62.78
Montana | Missoula | 47.08
Montana | Musselshell | 7.85
Montana | Park | 31.39
Montana | Petroleum | 7.85
Montana | Phillips | 7.85
Montana | Pondera | 15.69
Montana | Powder River | 7.85
Montana | Powell | 15.69
Montana | Prairie | 7.85
Montana | Ravalli | 94.17
Montana | Richland | 7.85
Montana | Roosevelt | 7.85
Montana | Rosebud | 7.85
Montana | Sanders | 31.39
Montana | Sheridan | 15.69
Montana | Silver Bow | 31.39
Montana | Stillwater | 15.69
Montana | Sweet Grass | 15.69
Montana | Teton | 15.69
Montana | Toole | 15.69
Montana | Treasure | 7.85
Montana | Valley | 7.85
Montana | Wheatland | 7.85
Montana | Wibaux | 7.85
Montana | Yellowstone | 15.69
Nebraska | Adams | 47.08
Nebraska | Antelope | 31.39
Nebraska | Arthur | 7.85
Nebraska | Banner | 7.85
Nebraska | Blaine | 7.85
Nebraska | Boone | 31.39
Nebraska | Box Butte | 15.69
Nebraska | Boyd | 15.69
Nebraska | Brown | 15.69
Nebraska | Buffalo | 47.08
Nebraska | Burt | 47.08
Nebraska | Butler | 62.78
Nebraska | Cass | 62.78
Nebraska | Cedar | 31.39
Nebraska | Chase | 31.39
Nebraska | Cherry | 7.85
Nebraska | Cheyenne | 15.69
Nebraska | Clay | 47.08
Nebraska | Colfax | 47.08
Nebraska | Cuming | 47.08
Nebraska | Custer | 15.69
Nebraska | Dakota | 47.08
Nebraska | Dawes | 15.69
Nebraska | Dawson | 31.39
Nebraska | Deuel | 15.69
Nebraska | Dixon | 31.39
Nebraska | Dodge | 62.78
Nebraska | Douglas | 156.94
Nebraska | Dundy | 15.69
Nebraska | Fillmore | 47.08
Nebraska | Franklin | 31.39
Nebraska | Frontier | 15.69
Nebraska | Furnas | 15.69
Nebraska | Gage | 31.39
Nebraska | Garden | 7.85
Nebraska | Garfield | 15.69
Nebraska | Gosper | 31.39
Nebraska | Grant | 7.85
Nebraska | Greeley | 31.39
Nebraska | Hall | 47.08
Nebraska | Hamilton | 47.08
Nebraska | Harlan | 31.39
Nebraska | Hayes | 15.69
Nebraska | Hitchcock | 15.69
Nebraska | Holt | 15.69
Nebraska | Hooker | 7.85
Nebraska | Howard | 31.39
Nebraska | Jefferson | 31.39
Nebraska | Johnson | 31.39
Nebraska | Kearney | 47.08
Nebraska | Keith | 15.69
Nebraska | Keya Paha | 15.69
Nebraska | Kimball | 7.85
Nebraska | Knox | 31.39
Nebraska | Lancaster | 62.78
Nebraska | Lincoln | 15.69
Nebraska | Logan | 7.85
Nebraska | Loup | 7.85
Nebraska | Madison | 47.08
Nebraska | McPherson | 7.85
Nebraska | Merrick | 47.08
Nebraska | Morrill | 15.69
Nebraska | Nance | 31.39
Nebraska | Nemaha | 47.08
Nebraska | Nuckolls | 31.39
Nebraska | Otoe | 47.08
Nebraska | Pawnee | 31.39
Nebraska | Perkins | 31.39
Nebraska | Phelps | 47.08
Nebraska | Pierce | 31.39
Nebraska | Platte | 47.08
Nebraska | Polk | 47.08
Nebraska | Red Willow | 15.69
Nebraska | Richardson | 31.39
Nebraska | Rock | 15.69
Nebraska | Saline | 47.08
Nebraska | Sarpy | 94.17
Nebraska | Saunders | 62.78
Nebraska | Scotts Bluff | 31.39
Nebraska | Seward | 47.08
Nebraska | Sheridan | 7.85
Nebraska | Sherman | 15.69
Nebraska | Sioux | 7.85
Nebraska | Stanton | 47.08
Nebraska | Thayer | 47.08
Nebraska | Thomas | 7.85
Nebraska | Thurston | 47.08
Nebraska | Valley | 31.39
Nebraska | Washington | 62.78
Nebraska | Wayne | 47.08
Nebraska | Webster | 31.39
Nebraska | Wheeler | 15.69
Nebraska | York | 62.78
Nevada | Carson City | 94.17
Nevada | Churchill | 47.08
Nevada | Clark | 94.17
Nevada | Douglas | 31.39
Nevada | Elko | 7.85
Nevada | Esmeralda | 31.39
Nevada | Eureka | 7.85
Nevada | Humboldt | 15.69
Nevada | Lander | 7.85
Nevada | Lincoln | 31.39
Nevada | Lyon | 47.08
Nevada | Mineral | 7.85
Nevada | Nye | 31.39
Nevada | Pershing | 31.39
Nevada | Storey | 941.66
Nevada | Washoe | 15.69
Nevada | White Pine | 15.69
New Hampshire | Belknap | 94.17
New Hampshire | Carroll | 94.17
New Hampshire | Cheshire | 94.17
New Hampshire | Coos | 31.39
New Hampshire | Grafton | 62.78
New Hampshire | Hillsborough | 156.94
New Hampshire | Merrimack | 94.17
New Hampshire | Rockingham | 313.89
New Hampshire | Strafford | 94.17
New Hampshire | Sullivan | 94.17
New Jersey | Atlantic | 156.94
New Jersey | Bergen | 1,569.43
New Jersey | Burlington | 313.89
New Jersey | Camden | 313.89
New Jersey | Cape May | 313.89
New Jersey | Cumberland | 156.94
New Jersey | Essex | 1,569.43
New Jersey | Gloucester | 313.89
New Jersey | Hudson * | 313.89
New Jersey | Hunterdon | 313.89
New Jersey | Mercer | 627.77
New Jersey | Middlesex | 627.77
New Jersey | Monmouth | 627.77
New Jersey | Morris | 941.66
New Jersey | Ocean | 627.77
New Jersey | Passaic | 941.66
New Jersey | Salem | 156.94
New Jersey | Somerset | 627.77
New Jersey | Sussex | 313.89
New Jersey | Union | 3,138.86
New Jersey | Warren | 313.89
New Mexico | Bernalillo | 15.69
New Mexico | Catron | 7.85
New Mexico | Chaves | 7.85
New Mexico | Cibola | 7.85
New Mexico | Colfax | 7.85
New Mexico | Curry | 15.69
New Mexico | De Baca | 7.85
New Mexico | Dona Ana | 47.08
New Mexico | Eddy | 7.85
New Mexico | Grant | 7.85
New Mexico | Guadalupe | 7.85
New Mexico | Harding * | 7.85
New Mexico | Hidalgo | 7.85
New Mexico | Lea | 7.85
New Mexico | Lincoln | 7.85
New Mexico | Los Alamos* | 7.85
New Mexico | Luna | 7.85
New Mexico | McKinley | 7.85
New Mexico | Mora | 7.85
New Mexico | Otero | 7.85
New Mexico | Quay | 7.85
New Mexico | Rio Arriba | 15.69
New Mexico | Roosevelt | 7.85
New Mexico | San Juan | 15.69
New Mexico | San Miguel | 7.85
New Mexico | Sandoval | 7.85
New Mexico | Santa Fe | 15.69
New Mexico | Sierra | 7.85
New Mexico | Socorro | 7.85
New Mexico | Taos | 15.69
New Mexico | Torrance | 7.85
New Mexico | Union | 7.85
New Mexico | Valencia | 31.39
New York | Albany | 94.17
New York | Allegany | 31.39
New York | Bronx * | 47.08
New York | Broome | 94.17
New York | Cattaraugus | 47.08
New York | Cayuga | 47.08
New York | Chautauqua | 47.08
New York | Chemung | 47.08
New York | Chenango | 31.39
New York | Clinton | 31.39
New York | Columbia | 94.17
New York | Cortland | 31.39
New York | Delaware | 47.08
New York | Dutchess | 313.89
New York | Erie | 47.08
New York | Essex | 47.08
New York | Franklin | 31.39
New York | Fulton | 47.08
New York | Genesee | 47.08
New York | Greene | 62.78
New York | Hamilton * | 47.08
New York | Herkimer | 31.39
New York | Jefferson | 31.39
New York | Kings * | 47.08
New York | Lewis | 31.39
New York | Livingston | 47.08
New York | Madison | 47.08
New York | Monroe | 62.78
New York | Montgomery | 47.08
New York | Nassau | 941.66
New York | New York | 313.89
New York | Niagara | 47.08
New York | Oneida | 31.39
New York | Onondaga | 47.08
New York | Ontario | 47.08
New York | Orange | 156.94
New York | Orleans | 31.39
New York | Oswego | 62.78
New York | Otsego | 47.08
New York | Putnam | 313.89
New York | Queens | 47.08
New York | Rensselaer | 94.17
New York | Richmond | 3,138.86
New York | Rockland | 941.66
New York | Saratoga | 94.17
New York | Schenectady | 62.78
New York | Schoharie | 47.08
New York | Schuyler | 47.08
New York | Seneca | 47.08
New York | St. Lawrence | 31.39
New York | Steuben | 31.39
New York | Suffolk | 627.77
New York | Sullivan | 94.17
New York | Tioga | 47.08
New York | Tompkins | 47.08
New York | Ulster | 94.17
New York | Warren | 94.17
New York | Washington | 47.08
New York | Wayne | 62.78
New York | Westchester | 627.77
New York | Wyoming | 47.08
New York | Yates | 47.08
North Carolina | Alamance | 156.94
North Carolina | Alexander | 156.94
North Carolina | Alleghany | 94.17
North Carolina | Anson | 94.17
North Carolina | Ashe | 156.94
North Carolina | Avery | 156.94
North Carolina | Beaufort | 62.78
North Carolina | Bertie | 62.78
North Carolina | Bladen | 94.17
North Carolina | Brunswick | 94.17
North Carolina | Buncombe | 156.94
North Carolina | Burke | 156.94
North Carolina | Cabarrus | 156.94
North Carolina | Caldwell | 156.94
North Carolina | Camden | 62.78
North Carolina | Carteret | 62.78
North Carolina | Caswell | 94.17
North Carolina | Catawba | 94.17
North Carolina | Chatham | 94.17
North Carolina | Cherokee | 156.94
North Carolina | Chowan | 62.78
North Carolina | Clay | 156.94
North Carolina | Cleveland | 94.17
North Carolina | Columbus | 62.78
North Carolina | Craven | 62.78
North Carolina | Cumberland | 94.17
North Carolina | Currituck | 94.17
North Carolina | Dare | 47.08
North Carolina | Davidson | 156.94
North Carolina | Davie | 156.94
North Carolina | Duplin | 94.17
North Carolina | Durham | 156.94
North Carolina | Edgecombe | 62.78
North Carolina | Forsyth | 156.94
North Carolina | Franklin | 94.17
North Carolina | Gaston | 156.94
North Carolina | Gates | 47.08
North Carolina | Graham | 94.17
North Carolina | Granville | 94.17
North Carolina | Greene | 94.17
North Carolina | Guilford | 156.94
North Carolina | Halifax | 47.08
North Carolina | Harnett | 94.17
North Carolina | Haywood | 156.94
North Carolina | Henderson | 156.94
North Carolina | Hertford | 62.78
North Carolina | Hoke | 94.17
North Carolina | Hyde | 47.08
North Carolina | Iredell | 156.94
North Carolina | Jackson | 156.94
North Carolina | Johnston | 94.17
North Carolina | Jones | 62.78
North Carolina | Lee | 94.17
North Carolina | Lenoir | 94.17
North Carolina | Lincoln | 156.94
North Carolina | Macon | 156.94
North Carolina | Madison | 156.94
North Carolina | Martin | 62.78
North Carolina | McDowell | 94.17
North Carolina | Mecklenburg | 313.89
North Carolina | Mitchell | 156.94
North Carolina | Montgomery | 94.17
North Carolina | Moore | 94.17
North Carolina | Nash | 94.17
North Carolina | New Hanover | 313.89
North Carolina | Northampton | 62.78
North Carolina | Onslow | 94.17
North Carolina | Orange | 156.94
North Carolina | Pamlico | 62.78
North Carolina | Pasquotank | 62.78
North Carolina | Pender | 94.17
North Carolina | Perquimans | 62.78
North Carolina | Person | 62.78
North Carolina | Pitt | 62.78
North Carolina | Polk | 156.94
North Carolina | Randolph | 156.94
North Carolina | Richmond | 62.78
North Carolina | Robeson | 62.78
North Carolina | Rockingham | 94.17
North Carolina | Rowan | 94.17
North Carolina | Rutherford | 94.17
North Carolina | Sampson | 94.17
North Carolina | Scotland | 62.78
North Carolina | Stanly | 94.17
North Carolina | Stokes | 94.17
North Carolina | Surry | 94.17
North Carolina | Swain | 156.94
North Carolina | Transylvania | 313.89
North Carolina | Tyrrell | 47.08
North Carolina | Union | 94.17
North Carolina | Vance | 62.78
North Carolina | Wake | 313.89
North Carolina | Warren | 62.78
North Carolina | Washington | 62.78
North Carolina | Watauga | 156.94
North Carolina | Wayne | 94.17
North Carolina | Wilkes | 94.17
North Carolina | Wilson | 62.78
North Carolina | Yadkin | 94.17
North Carolina | Yancey | 156.94
North Dakota | Adams | 7.85
North Dakota | Barnes | 15.69
North Dakota | Benson | 15.69
North Dakota | Billings | 7.85
North Dakota | Bottineau | 15.69
North Dakota | Bowman | 7.85
North Dakota | Burke | 7.85
North Dakota | Burleigh | 15.69
North Dakota | Cass | 31.39
North Dakota | Cavalier | 15.69
North Dakota | Dickey | 15.69
North Dakota | Divide | 7.85
North Dakota | Dunn | 7.85
North Dakota | Eddy | 15.69
North Dakota | Emmons | 7.85
North Dakota | Foster | 15.69
North Dakota | Golden Valley | 7.85
North Dakota | Grand Forks | 31.39
North Dakota | Grant | 7.85
North Dakota | Griggs | 15.69
North Dakota | Hettinger | 15.69
North Dakota | Kidder | 7.85
North Dakota | LaMoure | 15.69
North Dakota | Logan | 7.85
North Dakota | McHenry | 15.69
North Dakota | McIntosh | 7.85
North Dakota | McKenzie | 7.85
North Dakota | McLean | 15.69
North Dakota | Mercer | 7.85
North Dakota | Morton | 7.85
North Dakota | Mountrail | 7.85
North Dakota | Nelson | 15.69
North Dakota | Oliver | 7.85
North Dakota | Pembina | 31.39
North Dakota | Pierce | 15.69
North Dakota | Ramsey | 15.69
North Dakota | Ransom | 15.69
North Dakota | Renville | 15.69
North Dakota | Richland | 31.39
North Dakota | Rolette | 15.69
North Dakota | Sargent | 15.69
North Dakota | Sheridan | 7.85
North Dakota | Sioux | 7.85
North Dakota | Slope | 7.85
North Dakota | Stark | 15.69
North Dakota | Steele | 15.69
North Dakota | Stutsman | 15.69
North Dakota | Towner | 15.69
North Dakota | Traill | 31.39
North Dakota | Walsh | 31.39
North Dakota | Ward | 15.69
North Dakota | Wells | 15.69
North Dakota | Williams | 15.69
Ohio | Adams | 62.78
Ohio | Allen | 94.17
Ohio | Ashland | 94.17
Ohio | Ashtabula | 62.78
Ohio | Athens | 47.08
Ohio | Auglaize | 94.17
Ohio | Belmont | 47.08
Ohio | Brown | 62.78
Ohio | Butler | 156.94
Ohio | Carroll | 62.78
Ohio | Champaign | 94.17
Ohio | Clark | 94.17
Ohio | Clermont | 94.17
Ohio | Clinton | 94.17
Ohio | Columbiana | 94.17
Ohio | Coshocton | 62.78
Ohio | Crawford | 62.78
Ohio | Cuyahoga | 627.77
Ohio | Darke | 94.17
Ohio | Defiance | 62.78
Ohio | Delaware | 156.94
Ohio | Erie | 94.17
Ohio | Fairfield | 94.17
Ohio | Fayette | 62.78
Ohio | Franklin | 156.94
Ohio | Fulton | 94.17
Ohio | Gallia | 47.08
Ohio | Geauga | 156.94
Ohio | Greene | 94.17
Ohio | Guernsey | 62.78
Ohio | Hamilton | 156.94
Ohio | Hancock | 62.78
Ohio | Hardin | 62.78
Ohio | Harrison | 31.39
Ohio | Henry | 94.17
Ohio | Highland | 62.78
Ohio | Hocking | 94.17
Ohio | Holmes | 94.17
Ohio | Huron | 94.17
Ohio | Jackson | 47.08
Ohio | Jefferson | 47.08
Ohio | Knox | 94.17
Ohio | Lake | 313.89
Ohio | Lawrence | 47.08
Ohio | Licking | 94.17
Ohio | Logan | 62.78
Ohio | Lorain | 94.17
Ohio | Lucas | 94.17
Ohio | Madison | 94.17
Ohio | Mahoning | 94.17
Ohio | Marion | 62.78
Ohio | Medina | 156.94
Ohio | Meigs | 47.08
Ohio | Mercer | 94.17
Ohio | Miami | 94.17
Ohio | Monroe | 47.08
Ohio | Montgomery | 156.94
Ohio | Morgan | 47.08
Ohio | Morrow | 62.78
Ohio | Muskingum | 62.78
Ohio | Noble | 47.08
Ohio | Ottawa | 62.78
Ohio | Paulding | 62.78
Ohio | Perry | 62.78
Ohio | Pickaway | 94.17
Ohio | Pike | 47.08
Ohio | Portage | 156.94
Ohio | Preble | 94.17
Ohio | Putnam | 62.78
Ohio | Richland | 94.17
Ohio | Ross | 62.78
Ohio | Sandusky | 62.78
Ohio | Scioto | 47.08
Ohio | Seneca | 62.78
Ohio | Shelby | 94.17
Ohio | Stark | 156.94
Ohio | Summit | 156.94
Ohio | Trumbull | 94.17
Ohio | Tuscarawas | 94.17
Ohio | Union | 94.17
Ohio | Van Wert | 94.17
Ohio | Vinton | 62.78
Ohio | Warren | 156.94
Ohio | Washington | 62.78
Ohio | Wayne | 156.94
Ohio | Williams | 62.78
Ohio | Wood | 94.17
Ohio | Wyandot | 94.17
Oklahoma | Adair | 31.39
Oklahoma | Alfalfa | 31.39
Oklahoma | Atoka | 31.39
Oklahoma | Beaver | 15.69
Oklahoma | Beckham | 15.69
Oklahoma | Blaine | 15.69
Oklahoma | Bryan | 31.39
Oklahoma | Caddo | 15.69
Oklahoma | Canadian | 31.39
Oklahoma | Carter | 31.39
Oklahoma | Cherokee | 31.39
Oklahoma | Choctaw | 15.69
Oklahoma | Cimarron | 7.85
Oklahoma | Cleveland | 47.08
Oklahoma | Coal | 31.39
Oklahoma | Comanche | 31.39
Oklahoma | Cotton | 15.69
Oklahoma | Craig | 31.39
Oklahoma | Creek | 31.39
Oklahoma | Custer | 15.69
Oklahoma | Delaware | 47.08
Oklahoma | Dewey | 15.69
Oklahoma | Ellis | 15.69
Oklahoma | Garfield | 31.39
Oklahoma | Garvin | 31.39
Oklahoma | Grady | 31.39
Oklahoma | Grant | 15.69
Oklahoma | Greer | 15.69
Oklahoma | Harmon | 15.69
Oklahoma | Harper | 15.69
Oklahoma | Haskell | 31.39
Oklahoma | Hughes | 15.69
Oklahoma | Jackson | 15.69
Oklahoma | Jefferson | 15.69
Oklahoma | Johnston | 31.39
Oklahoma | Kay | 31.39
Oklahoma | Kingfisher | 31.39
Oklahoma | Kiowa | 15.69
Oklahoma | Latimer | 31.39
Oklahoma | Le Flore | 31.39
Oklahoma | Lincoln | 31.39
Oklahoma | Logan | 31.39
Oklahoma | Love | 31.39
Oklahoma | Major | 15.69
Oklahoma | Marshall | 31.39
Oklahoma | Mayes | 31.39
Oklahoma | McClain | 31.39
Oklahoma | McCurtain | 31.39
Oklahoma | McIntosh | 31.39
Oklahoma | Murray | 31.39
Oklahoma | Muskogee | 31.39
Oklahoma | Noble | 31.39
Oklahoma | Nowata | 31.39
Oklahoma | Okfuskee | 31.39
Oklahoma | Oklahoma | 62.78
Oklahoma | Okmulgee | 31.39
Oklahoma | Osage | 15.69
Oklahoma | Ottawa | 47.08
Oklahoma | Pawnee | 15.69
Oklahoma | Payne | 31.39
Oklahoma | Pittsburg | 31.39
Oklahoma | Pontotoc | 31.39
Oklahoma | Pottawatomie | 31.39
Oklahoma | Pushmataha | 15.69
Oklahoma | Roger Mills | 15.69
Oklahoma | Rogers | 47.08
Oklahoma | Seminole | 31.39
Oklahoma | Sequoyah | 47.08
Oklahoma | Stephens | 31.39
Oklahoma | Texas | 15.69
Oklahoma | Tillman | 15.69
Oklahoma | Tulsa | 62.78
Oklahoma | Wagoner | 47.08
Oklahoma | Washington | 31.39
Oklahoma | Washita | 15.69
Oklahoma | Woods | 15.69
Oklahoma | Woodward | 15.69
Oregon | Baker | 15.69
Oregon | Benton | 156.94
Oregon | Clackamas | 313.89
Oregon | Clatsop | 94.17
Oregon | Columbia | 156.94
Oregon | Coos | 94.17
Oregon | Crook | 15.69
Oregon | Curry | 62.78
Oregon | Deschutes | 156.94
Oregon | Douglas | 62.78
Oregon | Gilliam | 7.85
Oregon | Grant | 7.85
Oregon | Harney | 7.85
Oregon | Hood River | 313.89
Oregon | Jackson | 94.17
Oregon | Jefferson | 15.69
Oregon | Josephine | 156.94
Oregon | Klamath | 31.39
Oregon | Lake | 15.69
Oregon | Lane | 156.94
Oregon | Lincoln | 94.17
Oregon | Linn | 94.17
Oregon | Malheur | 15.69
Oregon | Marion | 156.94
Oregon | Morrow | 15.69
Oregon | Multnomah | 313.89
Oregon | Polk | 156.94
Oregon | Sherman | 15.69
Oregon | Tillamook | 156.94
Oregon | Umatilla | 31.39
Oregon | Union | 31.39
Oregon | Wallowa | 15.69
Oregon | Wasco | 15.69
Oregon | Washington | 313.89
Oregon | Wheeler | 7.85
Oregon | Yamhill | 313.89
Pennsylvania | Adams | 156.94
Pennsylvania | Allegheny | 156.94
Pennsylvania | Armstrong | 62.78
Pennsylvania | Beaver | 94.17
Pennsylvania | Bedford | 62.78
Pennsylvania | Berks | 156.94
Pennsylvania | Blair | 94.17
Pennsylvania | Bradford | 47.08
Pennsylvania | Bucks | 313.89
Pennsylvania | Butler | 156.94
Pennsylvania | Cambria | 94.17
Pennsylvania | Cameron | 62.78
Pennsylvania | Carbon | 156.94
Pennsylvania | Centre | 94.17
Pennsylvania | Chester | 313.89
Pennsylvania | Clarion | 47.08
Pennsylvania | Clearfield | 47.08
Pennsylvania | Clinton | 94.17
Pennsylvania | Columbia | 94.17
Pennsylvania | Crawford | 47.08
Pennsylvania | Cumberland | 156.94
Pennsylvania | Dauphin | 156.94
Pennsylvania | Delaware | 627.77
Pennsylvania | Elk | 94.17
Pennsylvania | Erie | 62.78
Pennsylvania | Fayette | 47.08
Pennsylvania | Forest | 62.78
Pennsylvania | Franklin | 156.94
Pennsylvania | Fulton | 62.78
Pennsylvania | Greene | 31.39
Pennsylvania | Huntingdon | 62.78
Pennsylvania | Indiana | 62.78
Pennsylvania | Jefferson | 47.08
Pennsylvania | Juniata | 94.17
Pennsylvania | Lackawanna | 94.17
Pennsylvania | Lancaster | 313.89
Pennsylvania | Lawrence | 62.78
Pennsylvania | Lebanon | 156.94
Pennsylvania | Lehigh | 156.94
Pennsylvania | Luzerne | 94.17
Pennsylvania | Lycoming | 62.78
Pennsylvania | McKean | 31.39
Pennsylvania | Mercer | 62.78
Pennsylvania | Mifflin | 94.17
Pennsylvania | Monroe | 156.94
Pennsylvania | Montgomery | 627.77
Pennsylvania | Montour | 94.17
Pennsylvania | Northampton | 156.94
Pennsylvania | Northumberland | 94.17
Pennsylvania | Perry | 94.17
Pennsylvania | Philadelphia | 941.66
Pennsylvania | Pike | 94.17
Pennsylvania | Potter | 47.08
Pennsylvania | Schuylkill | 94.17
Pennsylvania | Snyder | 94.17
Pennsylvania | Somerset | 62.78
Pennsylvania | Sullivan | 62.78
Pennsylvania | Susquehanna | 62.78
Pennsylvania | Tioga | 62.78
Pennsylvania | Union | 156.94
Pennsylvania | Venango | 47.08
Pennsylvania | Warren | 47.08
Pennsylvania | Washington | 62.78
Pennsylvania | Wayne | 62.78
Pennsylvania | Westmoreland | 94.17
Pennsylvania | Wyoming | 62.78
Pennsylvania | York | 156.94
Puerto Rico | All Areas | 156.94
Rhode Island | Bristol | 627.77
Rhode Island | Kent | 313.89
Rhode Island | Newport | 627.77
Rhode Island | Providence | 313.89
Rhode Island | Washington | 313.89
South Carolina | Abbeville | 62.78
South Carolina | Aiken | 62.78
South Carolina | Allendale | 47.08
South Carolina | Anderson | 94.17
South Carolina | Bamberg | 47.08
South Carolina | Barnwell | 47.08
South Carolina | Beaufort | 62.78
South Carolina | Berkeley | 94.17
South Carolina | Calhoun | 47.08
South Carolina | Charleston | 156.94
South Carolina | Cherokee | 62.78
South Carolina | Chester | 62.78
South Carolina | Chesterfield | 47.08
South Carolina | Clarendon | 47.08
South Carolina | Colleton | 47.08
South Carolina | Darlington | 31.39
South Carolina | Dillon | 47.08
South Carolina | Dorchester | 62.78
South Carolina | Edgefield | 62.78
South Carolina | Fairfield | 47.08
South Carolina | Florence | 47.08
South Carolina | Georgetown | 62.78
South Carolina | Greenville | 94.17
South Carolina | Greenwood | 47.08
South Carolina | Hampton | 47.08
South Carolina | Horry | 62.78
South Carolina | Jasper | 47.08
South Carolina | Kershaw | 62.78
South Carolina | Lancaster | 62.78
South Carolina | Laurens | 62.78
South Carolina | Lee | 47.08
South Carolina | Lexington | 94.17
South Carolina | Marion | 47.08
South Carolina | Marlboro | 31.39
South Carolina | McCormick | 94.17
South Carolina | Newberry | 62.78
South Carolina | Oconee | 156.94
South Carolina | Orangeburg | 47.08
South Carolina | Pickens | 156.94
South Carolina | Richland | 94.17
South Carolina | Saluda | 62.78
South Carolina | Spartanburg | 156.94
South Carolina | Sumter | 62.78
South Carolina | Union | 47.08
South Carolina | Williamsburg | 47.08
South Carolina | York | 156.94
South Dakota | Aurora | 15.69
South Dakota | Beadle | 15.69
South Dakota | Bennett | 7.85
South Dakota | Bon Homme | 31.39
South Dakota | Brookings | 31.39
South Dakota | Brown | 31.39
South Dakota | Brule | 15.69
South Dakota | Buffalo | 7.85
South Dakota | Butte | 7.85
South Dakota | Campbell | 15.69
South Dakota | Charles Mix | 15.69
South Dakota | Clark | 31.39
South Dakota | Clay | 47.08
South Dakota | Codington | 31.39
South Dakota | Corson | 7.85
South Dakota | Custer | 15.69
South Dakota | Davison | 31.39
South Dakota | Day | 15.69
South Dakota | Deuel | 31.39
South Dakota | Dewey | 7.85
South Dakota | Douglas | 31.39
South Dakota | Edmunds | 15.69
South Dakota | Fall River | 7.85
South Dakota | Faulk | 15.69
South Dakota | Grant | 31.39
South Dakota | Gregory | 15.69
South Dakota | Haakon | 7.85
South Dakota | Hamlin | 31.39
South Dakota | Hand | 15.69
South Dakota | Hanson | 31.39
South Dakota | Harding | 7.85
South Dakota | Hughes | 15.69
South Dakota | Hutchinson | 31.39
South Dakota | Hyde | 7.85
South Dakota | Jackson | 7.85
South Dakota | Jerauld | 15.69
South Dakota | Jones | 7.85
South Dakota | Kingsbury | 31.39
South Dakota | Lake | 31.39
South Dakota | Lawrence | 31.39
South Dakota | Lincoln | 47.08
South Dakota | Lyman | 15.69
South Dakota | Marshall | 15.69
South Dakota | McCook | 31.39
South Dakota | McPherson | 15.69
South Dakota | Meade | 7.85
South Dakota | Mellette | 7.85
South Dakota | Miner | 31.39
South Dakota | Minnehaha | 47.08
South Dakota | Moody | 31.39
South Dakota | Pennington | 15.69
South Dakota | Perkins | 7.85
South Dakota | Potter | 15.69
South Dakota | Roberts | 31.39
South Dakota | Sanborn | 15.69
South Dakota | Shannon | 7.85
South Dakota | Spink | 15.69
South Dakota | Stanley | 7.85
South Dakota | Sully | 15.69
South Dakota | Todd | 7.85
South Dakota | Tripp | 15.69
South Dakota | Turner | 47.08
South Dakota | Union | 62.78
South Dakota | Walworth | 15.69
South Dakota | Yankton | 31.39
South Dakota | Ziebach | 7.85
Tennessee | Anderson | 156.94
Tennessee | Bedford | 62.78
Tennessee | Benton | 47.08
Tennessee | Bledsoe | 62.78
Tennessee | Blount | 156.94
Tennessee | Bradley | 156.94
Tennessee | Campbell | 62.78
Tennessee | Cannon | 94.17
Tennessee | Carroll | 47.08
Tennessee | Carter | 94.17
Tennessee | Cheatham | 94.17
Tennessee | Chester | 47.08
Tennessee | Claiborne | 47.08
Tennessee | Clay | 47.08
Tennessee | Cocke | 94.17
Tennessee | Coffee | 94.17
Tennessee | Crockett | 62.78
Tennessee | Cumberland | 94.17
Tennessee | Davidson | 313.89
Tennessee | Decatur | 47.08
Tennessee | DeKalb | 94.17
Tennessee | Dickson | 94.17
Tennessee | Dyer | 62.78
Tennessee | Fayette | 62.78
Tennessee | Fentress | 62.78
Tennessee | Franklin | 94.17
Tennessee | Gibson | 47.08
Tennessee | Giles | 62.78
Tennessee | Grainger | 62.78
Tennessee | Greene | 94.17
Tennessee | Grundy | 62.78
Tennessee | Hamblen | 156.94
Tennessee | Hamilton | 94.17
Tennessee | Hancock | 62.78
Tennessee | Hardeman | 31.39
Tennessee | Hardin | 47.08
Tennessee | Hawkins | 94.17
Tennessee | Haywood | 47.08
Tennessee | Henderson | 47.08
Tennessee | Henry | 47.08
Tennessee | Hickman | 47.08
Tennessee | Houston | 47.08
Tennessee | Humphreys | 47.08
Tennessee | Jackson | 47.08
Tennessee | Jefferson | 156.94
Tennessee | Johnson | 94.17
Tennessee | Knox | 156.94
Tennessee | Lake | 47.08
Tennessee | Lauderdale | 47.08
Tennessee | Lawrence | 47.08
Tennessee | Lewis | 62.78
Tennessee | Lincoln | 62.78
Tennessee | Loudon | 156.94
Tennessee | Macon | 94.17
Tennessee | Madison | 94.17
Tennessee | Marion | 62.78
Tennessee | Marshall | 62.78
Tennessee | Maury | 94.17
Tennessee | McMinn | 94.17
Tennessee | McNairy | 31.39
Tennessee | Meigs | 94.17
Tennessee | Monroe | 94.17
Tennessee | Montgomery | 62.78
Tennessee | Moore | 62.78
Tennessee | Morgan | 62.78
Tennessee | Obion | 47.08
Tennessee | Overton | 62.78
Tennessee | Perry | 47.08
Tennessee | Pickett | 62.78
Tennessee | Polk | 156.94
Tennessee | Putnam | 94.17
Tennessee | Rhea | 94.17
Tennessee | Roane | 94.17
Tennessee | Robertson | 94.17
Tennessee | Rutherford | 94.17
Tennessee | Scott | 62.78
Tennessee | Sequatchie | 62.78
Tennessee | Sevier | 156.94
Tennessee | Shelby | 156.94
Tennessee | Smith | 62.78
Tennessee | Stewart | 62.78
Tennessee | Sullivan | 94.17
Tennessee | Sumner | 94.17
Tennessee | Tipton | 62.78
Tennessee | Trousdale | 94.17
Tennessee | Unicoi | 313.89
Tennessee | Union | 94.17
Tennessee | Van Buren | 62.78
Tennessee | Warren | 62.78
Tennessee | Washington | 156.94
Tennessee | Wayne | 47.08
Tennessee | Weakley | 47.08
Tennessee | White | 94.17
Tennessee | Williamson | 156.94
Tennessee | Wilson | 94.17
Texas | Anderson | 31.39
Texas | Andrews | 7.85
Texas | Angelina | 62.78
Texas | Aransas | 31.39
Texas | Archer | 15.69
Texas | Armstrong | 15.69
Texas | Atascosa | 31.39
Texas | Austin | 62.78
Texas | Bailey | 15.69
Texas | Bandera | 47.08
Texas | Bastrop | 47.08
Texas | Baylor | 15.69
Texas | Bee | 31.39
Texas | Bell | 47.08
Texas | Bexar | 62.78
Texas | Blanco | 62.78
Texas | Borden | 15.69
Texas | Bosque | 47.08
Texas | Bowie | 47.08
Texas | Brazoria | 47.08
Texas | Brazos | 47.08
Texas | Brewster | 7.85
Texas | Briscoe | 7.85
Texas | Brooks | 15.69
Texas | Brown | 31.39
Texas | Burleson | 47.08
Texas | Burnet | 47.08
Texas | Caldwell | 47.08
Texas | Calhoun | 31.39
Texas | Callahan | 15.69
Texas | Cameron | 47.08
Texas | Camp | 62.78
Texas | Carson | 15.69
Texas | Cass | 47.08
Texas | Castro | 31.39
Texas | Chambers | 31.39
Texas | Cherokee | 47.08
Texas | Childress | 15.69
Texas | Clay | 31.39
Texas | Cochran | 15.69
Texas | Coke | 15.69
Texas | Coleman | 15.69
Texas | Collin | 94.17
Texas | Collingsworth | 15.69
Texas | Colorado | 47.08
Texas | Comal | 62.78
Texas | Comanche | 31.39
Texas | Concho | 15.69
Texas | Cooke | 47.08
Texas | Coryell | 31.39
Texas | Cottle | 7.85
Texas | Crane | 7.85
Texas | Crockett | 7.85
Texas | Crosby | 15.69
Texas | Culberson | 7.85
Texas | Dallam | 15.69
Texas | Dallas | 94.17
Texas | Dawson | 15.69
Texas | Deaf Smith | 15.69
Texas | Delta | 31.39
Texas | Denton | 94.17
Texas | DeWitt | 31.39
Texas | Dickens | 7.85
Texas | Dimmit | 15.69
Texas | Donley | 15.69
Texas | Duval | 31.39
Texas | Eastland | 31.39
Texas | Ector | 7.85
Texas | Edwards | 15.69
Texas | El Paso | 62.78
Texas | Ellis | 47.08
Texas | Erath | 47.08
Texas | Falls | 31.39
Texas | Fannin | 31.39
Texas | Fayette | 62.78
Texas | Fisher | 15.69
Texas | Floyd | 15.69
Texas | Foard | 15.69
Texas | Fort Bend | 62.78
Texas | Franklin | 31.39
Texas | Freestone | 31.39
Texas | Frio | 31.39
Texas | Gaines | 15.69
Texas | Galveston | 47.08
Texas | Garza | 7.85
Texas | Gillespie | 62.78
Texas | Glasscock | 15.69
Texas | Goliad | 31.39
Texas | Gonzales | 31.39
Texas | Gray | 15.69
Texas | Grayson | 62.78
Texas | Gregg | 47.08
Texas | Grimes | 47.08
Texas | Guadalupe | 62.78
Texas | Hale | 15.69
Texas | Hall | 7.85
Texas | Hamilton | 31.39
Texas | Hansford | 15.69
Texas | Hardeman | 15.69
Texas | Hardin | 47.08
Texas | Harris | 94.17
Texas | Harrison | 31.39
Texas | Hartley | 15.69
Texas | Haskell | 15.69
Texas | Hays | 94.17
Texas | Hemphill | 7.85
Texas | Henderson | 47.08
Texas | Hidalgo | 62.78
Texas | Hill | 31.39
Texas | Hockley | 15.69
Texas | Hood | 62.78
Texas | Hopkins | 47.08
Texas | Houston | 31.39
Texas | Howard | 15.69
Texas | Hudspeth | 7.85
Texas | Hunt | 47.08
Texas | Hutchinson | 7.85
Texas | Irion | 7.85
Texas | Jack | 31.39
Texas | Jackson | 31.39
Texas | Jasper | 47.08
Texas | Jeff Davis | 7.85
Texas | Jefferson | 31.39
Texas | Jim Hogg | 15.69
Texas | Jim Wells | 15.69
Texas | Johnson | 62.78
Texas | Jones | 15.69
Texas | Karnes | 31.39
Texas | Kaufman | 47.08
Texas | Kendall | 62.78
Texas | Kenedy | 15.69
Texas | Kent | 7.85
Texas | Kerr | 31.39
Texas | Kimble | 31.39
Texas | King | 7.85
Texas | Kinney | 15.69
Texas | Kleberg | 15.69
Texas | Knox | 7.85
Texas | La Salle | 15.69
Texas | Lamar | 31.39
Texas | Lamb | 15.69
Texas | Lampasas | 31.39
Texas | Lavaca | 47.08
Texas | Lee | 47.08
Texas | Leon | 31.39
Texas | Liberty | 47.08
Texas | Limestone | 31.39
Texas | Lipscomb | 15.69
Texas | Live Oak | 31.39
Texas | Llano | 47.08
Texas | Loving | 7.85
Texas | Lubbock | 31.39
Texas | Lynn | 15.69
Texas | Madison | 31.39
Texas | Marion | 31.39
Texas | Martin | 15.69
Texas | Mason | 31.39
Texas | Matagorda | 31.39
Texas | Maverick | 7.85
Texas | McCulloch | 31.39
Texas | McLennan | 31.39
Texas | McMullen | 31.39
Texas | Medina | 31.39
Texas | Menard | 15.69
Texas | Midland | 15.69
Texas | Milam | 31.39
Texas | Mills | 31.39
Texas | Mitchell | 15.69
Texas | Montague | 47.08
Texas | Montgomery | 94.17
Texas | Moore | 15.69
Texas | Morris | 31.39
Texas | Motley | 7.85
Texas | Nacogdoches | 47.08
Texas | Navarro | 31.39
Texas | Newton | 31.39
Texas | Nolan | 15.69
Texas | Nueces | 31.39
Texas | Ochiltree | 15.69
Texas | Oldham | 7.85
Texas | Orange | 47.08
Texas | Palo Pinto | 31.39
Texas | Panola | 31.39
Texas | Parker | 62.78
Texas | Parmer | 15.69
Texas | Pecos | 7.85
Texas | Polk | 47.08
Texas | Potter | 15.69
Texas | Presidio | 15.69
Texas | Rains | 47.08
Texas | Randall | 15.69
Texas | Reagan | 7.85
Texas | Real | 15.69
Texas | Red River | 31.39
Texas | Reeves | 7.85
Texas | Refugio | 15.69
Texas | Roberts | 7.85
Texas | Robertson | 31.39
Texas | Rockwall | 94.17
Texas | Runnels | 15.69
Texas | Rusk | 47.08
Texas | Sabine | 62.78
Texas | San Augustine | 47.08
Texas | San Jacinto | 62.78
Texas | San Patricio | 31.39
Texas | San Saba | 31.39
Texas | Schleicher | 15.69
Texas | Scurry | 15.69
Texas | Shackelford | 15.69
Texas | Shelby | 47.08
Texas | Sherman | 15.69
Texas | Smith | 47.08
Texas | Somervell | 47.08
Texas | Starr | 31.39
Texas | Stephens | 15.69
Texas | Sterling | 7.85
Texas | Stonewall | 7.85
Texas | Sutton | 15.69
Texas | Swisher | 15.69
Texas | Tarrant | 94.17
Texas | Taylor | 31.39
Texas | Terrell | 7.85
Texas | Terry | 15.69
Texas | Throckmorton | 15.69
Texas | Titus | 47.08
Texas | Tom Green | 31.39
Texas | Travis | 47.08
Texas | Trinity | 31.39
Texas | Tyler | 62.78
Texas | Upshur | 47.08
Texas | Upton | 7.85
Texas | Uvalde | 31.39
Texas | Val Verde | 7.85
Texas | Van Zandt | 47.08
Texas | Victoria | 31.39
Texas | Walker | 62.78
Texas | Waller | 94.17
Texas | Ward | 7.85
Texas | Washington | 62.78
Texas | Webb | 15.69
Texas | Wharton | 31.39
Texas | Wheeler | 15.69
Texas | Wichita | 31.39
Texas | Wilbarger | 15.69
Texas | Willacy | 31.39
Texas | Williamson | 62.78
Texas | Wilson | 47.08
Texas | Winkler | 7.85
Texas | Wise | 62.78
Texas | Wood | 47.08
Texas | Yoakum | 15.69
Texas | Young | 15.69
Texas | Zapata | 31.39
Texas | Zavala | 31.39
Utah | Beaver | 62.78
Utah | Box Elder | 15.69
Utah | Cache | 62.78
Utah | Carbon | 15.69
Utah | Daggett | 31.39
Utah | Davis | 156.94
Utah | Duchesne | 15.69
Utah | Emery | 31.39
Utah | Garfield | 47.08
Utah | Grand | 31.39
Utah | Iron | 31.39
Utah | Juab | 15.69
Utah | Kane | 15.69
Utah | Millard | 31.39
Utah | Morgan | 31.39
Utah | Piute | 47.08
Utah | Rich | 15.69
Utah | Salt Lake | 156.94
Utah | San Juan | 7.85
Utah | Sanpete | 31.39
Utah | Sevier | 47.08
Utah | Summit | 31.39
Utah | Tooele | 15.69
Utah | Uintah | 7.85
Utah | Utah | 94.17
Utah | Wasatch | 94.17
Utah | Washington | 47.08
Utah | Wayne | 47.08
Utah | Weber | 156.94
Vermont | Addison | 47.08
Vermont | Bennington | 47.08
Vermont | Caledonia | 62.78
Vermont | Chittenden | 62.78
Vermont | Essex | 47.08
Vermont | Franklin | 47.08
Vermont | Grand Isle | 94.17
Vermont | Lamoille | 62.78
Vermont | Orange | 47.08
Vermont | Orleans | 47.08
Vermont | Rutland | 94.17
Vermont | Washington | 62.78
Vermont | Windham | 62.78
Vermont | Windsor | 94.17
Virginia | Accomack | 62.78
Virginia | Albemarle | 156.94
Virginia | Alleghany | 62.78
Virginia | Amelia | 62.78
Virginia | Amherst | 62.78
Virginia | Appomattox | 47.08
Virginia | Arlington | 94.17
Virginia | Augusta | 94.17
Virginia | Bath | 62.78
Virginia | Bedford | 94.17
Virginia | Bland | 47.08
Virginia | Botetourt | 94.17
Virginia | Brunswick | 47.08
Virginia | Buchanan | 94.17
Virginia | Buckingham | 62.78
Virginia | Campbell | 47.08
Virginia | Caroline | 62.78
Virginia | Carroll | 94.17
Virginia | Charles City | 94.17
Virginia | Charlotte | 47.08
Virginia | Chesapeake City | 94.17
Virginia | Chesterfield | 156.94
Virginia | Clarke | 156.94
Virginia | Craig | 62.78
Virginia | Culpeper | 156.94
Virginia | Cumberland | 62.78
Virginia | Dickenson | 47.08
Virginia | Dinwiddie | 47.08
Virginia | Essex | 62.78
Virginia | Fairfax | 313.89
Virginia | Fauquier | 156.94
Virginia | Floyd | 62.78
Virginia | Fluvanna | 62.78
Virginia | Franklin | 62.78
Virginia | Frederick | 94.17
Virginia | Giles | 62.78
Virginia | Gloucester | 94.17
Virginia | Goochland | 94.17
Virginia | Grayson | 94.17
Virginia | Greene | 156.94
Virginia | Greensville | 47.08
Virginia | Halifax | 47.08
Virginia | Hanover | 156.94
Virginia | Henrico | 156.94
Virginia | Henry | 47.08
Virginia | Highland | 62.78
Virginia | Isle of Wight | 62.78
Virginia | James City | 156.94
Virginia | King and Queen | 62.78
Virginia | King George | 94.17
Virginia | King William | 62.78
Virginia | Lancaster | 62.78
Virginia | Lee | 47.08
Virginia | Loudoun | 313.89
Virginia | Louisa | 62.78
Virginia | Lunenburg | 47.08
Virginia | Madison | 94.17
Virginia | Mathews | 94.17
Virginia | Mecklenburg | 47.08
Virginia | Middlesex | 94.17
Virginia | Montgomery | 94.17
Virginia | Nelson | 62.78
Virginia | New Kent | 94.17
Virginia | Northampton | 62.78
Virginia | Northumberland | 62.78
Virginia | Nottoway | 62.78
Virginia | Orange | 94.17
Virginia | Page | 156.94
Virginia | Patrick | 47.08
Virginia | Pittsylvania | 47.08
Virginia | Powhatan | 94.17
Virginia | Prince Edward | 47.08
Virginia | Prince George | 62.78
Virginia | Prince William | 313.89
Virginia | Pulaski | 62.78
Virginia | Rappahannock | 94.17
Virginia | Richmond | 47.08
Virginia | Roanoke | 94.17
Virginia | Rockbridge | 94.17
Virginia | Rockingham | 156.94
Virginia | Russell | 47.08
Virginia | Scott | 47.08
Virginia | Shenandoah | 94.17
Virginia | Smyth | 47.08
Virginia | Southampton | 62.78
Virginia | Spotsylvania | 156.94
Virginia | Stafford | 156.94
Virginia | Suffolk | 62.78
Virginia | Surry | 62.78
Virginia | Sussex | 47.08
Virginia | Tazewell | 47.08
Virginia | Virginia Beach City | 94.17
Virginia | Warren | 156.94
Virginia | Washington | 62.78
Virginia | Westmoreland | 62.78
Virginia | Wise | 62.78
Virginia | Wythe | 62.78
Virginia | York | 1,569.43
Washington | Adams | 31.39
Washington | Asotin | 15.69
Washington | Benton | 47.08
Washington | Chelan | 313.89
Washington | Clallam | 313.89
Washington | Clark | 313.89
Washington | Columbia | 31.39
Washington | Cowlitz | 156.94
Washington | Douglas | 31.39
Washington | Ferry | 15.69
Washington | Franklin | 47.08
Washington | Garfield | 15.69
Washington | Grant | 62.78
Washington | Grays Harbor | 62.78
Washington | Island | 313.89
Washington | Jefferson | 156.94
Washington | King | 627.77
Washington | Kitsap | 627.77
Washington | Kittitas | 94.17
Washington | Klickitat | 31.39
Washington | Lewis | 94.17
Washington | Lincoln | 15.69
Washington | Mason | 156.94
Washington | Okanogan | 31.39
Washington | Pacific | 62.78
Washington | Pend Oreille | 47.08
Washington | Pierce | 313.89
Washington | San Juan | 313.89
Washington | Skagit | 156.94
Washington | Skamania | 156.94
Washington | Snohomish | 313.89
Washington | Spokane | 62.78
Washington | Stevens | 31.39
Washington | Thurston | 313.89
Washington | Wahkiakum | 94.17
Washington | Walla Walla | 47.08
Washington | Whatcom | 156.94
Washington | Whitman | 31.39
Washington | Yakima | 47.08
West Virginia | Barbour | 31.39
West Virginia | Berkeley | 94.17
West Virginia | Boone | 31.39
West Virginia | Braxton | 31.39
West Virginia | Brooke | 31.39
West Virginia | Cabell | 47.08
West Virginia | Calhoun | 31.39
West Virginia | Clay | 31.39
West Virginia | Doddridge | 31.39
West Virginia | Fayette | 47.08
West Virginia | Gilmer | 31.39
West Virginia | Grant | 47.08
West Virginia | Greenbrier | 47.08
West Virginia | Hampshire | 47.08
West Virginia | Hancock | 62.78
West Virginia | Hardy | 47.08
West Virginia | Harrison | 31.39
West Virginia | Jackson | 47.08
West Virginia | Jefferson | 94.17
West Virginia | Kanawha | 47.08
West Virginia | Lewis | 31.39
West Virginia | Lincoln | 31.39
West Virginia | Logan | 62.78
West Virginia | Marion | 47.08
West Virginia | Marshall | 31.39
West Virginia | Mason | 47.08
West Virginia | McDowell | 31.39
West Virginia | Mercer | 47.08
West Virginia | Mineral | 47.08
West Virginia | Mingo | 31.39
West Virginia | Monongalia | 47.08
West Virginia | Monroe | 47.08
West Virginia | Morgan | 62.78
West Virginia | Nicholas | 47.08
West Virginia | Ohio | 31.39
West Virginia | Pendleton | 31.39
West Virginia | Pleasants | 31.39
West Virginia | Pocahontas | 31.39
West Virginia | Preston | 47.08
West Virginia | Putnam | 47.08
West Virginia | Raleigh | 47.08
West Virginia | Randolph | 31.39
West Virginia | Ritchie | 31.39
West Virginia | Roane | 31.39
West Virginia | Summers | 31.39
West Virginia | Taylor | 47.08
West Virginia | Tucker | 31.39
West Virginia | Tyler | 31.39
West Virginia | Upshur | 31.39
West Virginia | Wayne | 31.39
West Virginia | Webster | 31.39
West Virginia | Wetzel | 31.39
West Virginia | Wirt | 31.39
West Virginia | Wood | 47.08
West Virginia | Wyoming | 31.39
Wisconsin | Adams | 62.78
Wisconsin | Ashland | 31.39
Wisconsin | Barron | 47.08
Wisconsin | Bayfield | 31.39
Wisconsin | Brown | 94.17
Wisconsin | Buffalo | 47.08
Wisconsin | Burnett | 47.08
Wisconsin | Calumet | 94.17
Wisconsin | Chippewa | 47.08
Wisconsin | Clark | 47.08
Wisconsin | Columbia | 94.17
Wisconsin | Crawford | 47.08
Wisconsin | Dane | 94.17
Wisconsin | Dodge | 62.78
Wisconsin | Door | 62.78
Wisconsin | Douglas | 31.39
Wisconsin | Dunn | 47.08
Wisconsin | Eau Claire | 47.08
Wisconsin | Florence | 47.08
Wisconsin | Fond du Lac | 62.78
Wisconsin | Forest | 47.08
Wisconsin | Grant | 62.78
Wisconsin | Green | 62.78
Wisconsin | Green Lake | 62.78
Wisconsin | Iowa | 62.78
Wisconsin | Iron | 31.39
Wisconsin | Jackson | 47.08
Wisconsin | Jefferson | 94.17
Wisconsin | Juneau | 47.08
Wisconsin | Kenosha | 156.94
Wisconsin | Kewaunee | 94.17
Wisconsin | La Crosse | 62.78
Wisconsin | Lafayette | 62.78
Wisconsin | Langlade | 47.08
Wisconsin | Lincoln | 47.08
Wisconsin | Manitowoc | 94.17
Wisconsin | Marathon | 47.08
Wisconsin | Marinette | 47.08
Wisconsin | Marquette | 62.78
Wisconsin | Menominee | 31.39
Wisconsin | Milwaukee | 313.89
Wisconsin | Monroe | 62.78
Wisconsin | Oconto | 62.78
Wisconsin | Oneida | 62.78
Wisconsin | Outagamie | 94.17
Wisconsin | Ozaukee | 156.94
Wisconsin | Pepin | 47.08
Wisconsin | Pierce | 62.78
Wisconsin | Polk | 62.78
Wisconsin | Portage | 94.17
Wisconsin | Price | 47.08
Wisconsin | Racine | 156.94
Wisconsin | Richland | 62.78
Wisconsin | Rock | 94.17
Wisconsin | Rusk | 62.78
Wisconsin | Sauk | 94.17
Wisconsin | Sawyer | 62.78
Wisconsin | Shawano | 94.17
Wisconsin | Sheboygan | 94.17
Wisconsin | St. Croix | 94.17
Wisconsin | Taylor | 47.08
Wisconsin | Trempealeau | 47.08
Wisconsin | Vernon | 47.08
Wisconsin | Vilas | 94.17
Wisconsin | Walworth | 156.94
Wisconsin | Washburn | 47.08
Wisconsin | Washington | 156.94
Wisconsin | Waukesha | 156.94
Wisconsin | Waupaca | 62.78
Wisconsin | Waushara | 94.17
Wisconsin | Winnebago | 94.17
Wisconsin | Wood | 47.08
Wyoming | Albany | 7.85
Wyoming | Big Horn | 31.39
Wyoming | Campbell | 7.85
Wyoming | Carbon | 7.85
Wyoming | Converse | 7.85
Wyoming | Crook | 15.69
Wyoming | Fremont | 7.85
Wyoming | Goshen | 15.69
Wyoming | Hot Springs | 7.85
Wyoming | Johnson | 7.85
Wyoming | Laramie | 7.85
Wyoming | Lincoln | 31.39
Wyoming | Natrona | 7.85
Wyoming | Niobrara | 7.85
Wyoming | Park | 31.39
Wyoming | Platte | 15.69
Wyoming | Sheridan | 15.69
Wyoming | Sublette | 31.39
Wyoming | Sweetwater | 7.85
Wyoming | Teton | 94.17
Wyoming | Uinta | 15.69
Wyoming | Washakie | 15.69
Wyoming | Weston | 7.85

[FR Doc. 2010-18201 Filed 7-27-10; 8:45 am]

BILLING CODE 6717-01-P